DEPARTMENT OF TRANSPORTATION

Pipeline and Hazardous Materials Safety Administration

Office of Hazardous Materials Safety; Actions on Special Permit Applications

AGENCY: Pipeline and Hazardous Materials Safety Administration, DOT.

ACTION: Notice of actions on special permit applications.

SUMMARY: In accordance with the procedures governing the application for, and the processing of, special permits from the Department of Transportation's Hazardous Material Regulations (49 CFR part 107, subpart B), notice is hereby given of the actions on special permit applications in January 2005 to June 2006. The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on August 11, 2006.
R. Ryan Posten,
Chief Special, Permits Program, Office of Hazardous Materials, Special Permits & Approvals.

Special permit No. | Docket No. | Applicant | Application date | Action date | Regulation(s) | Nature of special permit thereof
MODIFICATION SPECIAL PERMIT GRANTED
11970-M | RSPA-97-2993 | ExxonMobil Chemical Company, Mont Belvieu, TX | 01/27/2005 | 08/15/2005 | 49 CFR 172.101; 178.245-1(c) | To modify the exemption to authorize an additional portable tank configuration and dimension drawing for transporting Division 4.2 materials and rail freight as a mode of transportation.
11691-M |  | PepsiCo International, Valhalla, NY | 01/07/2005 | 03/15/2005 | 49 CFR 176.83;(d); 176.331; 176.800(a) | To modify the exemption to update a proper shipping description and authorize the transportation of a Class 9 material with Class 3 and Class 8 materials not subject to the segregation requirements for vessel storage when shipped in the same transport vehicle.
12643-M | RSPA-01-9066 | Northup Grumman Space Technology, Redondo Beach, CA | 01/12/2005 | 04/18/2005 | 49 CFR 173.302 and 175.3 | To modify the exemption to authorize an additional design change to the pulse tube cooler with an increased volume to 1100 cc and test pressure to 915 psig shipped inside a strong, foam filled shipping container.
11917-M | RSPA-97-2741 | Sexton Can Company, Inc., Decatur, AL | 01/26/2005 | 03/29/2005 | 49 CFR 173.304(a) | To modify the exemption to authorize an increased water capacity limit to 40.4 cubic inches and the transportation of an additional Division 2.1 material in non-DOT specification, non-refillable steel cylinders.
13580-M | RSPA-04-18506 | Carleton Technologies Inc., Orchard Park, NY | 01/11/2005 | 09/30/2005 | 49 CFR 178.65 | To modify the exemption to authorize a larger non-DOT specification pressure vessel with increased service, test and burst pressures for the transportation of Division 2.2 materials.
7465-M |  | State of Alaska Department of Transportation & Public Facilities, Juneau, AK | 02/01/2005 | 04/11/2005 | 49 CFR Part 172; 173.220 | To modify the exemption to authorize the addition of a new ferry vessel to the existing passenger ferry fleet.
7928-M |  | State of Alaska Department of Transportation & Public Facilities, Juneau, AK | 02/01/2005 | 04/11/2005 | 49 CFR 172.101; 176.905(L) | To modify the exemption to authorize the addition of a new ferry vessel to the existing passenger ferry fleet.
9830-M |  | Worthington Cylinder Corporation, Columbus, OH | 02/10/2005 | 04/08/2005 | 49 CFR 173.201; 173.202; 173.203; 173.302a(a); 173.304a(a) & (d); 175.3 | To modify the exemption to authorize the transportation of certain Class 8 materials in non-DOT specification steel cylinders by motor vehicle only.
12844-M | RSPA-01-10753 | Delphi Automotive Systems, Vandalia, OH | 02/01/2005 | 06/01/2005 | 49 CFR 173.301(a)(1); 173.302a(a); 175.3 | To modify the exemption to authorize an increase of the maximum service pressure to 7,200 psig for the non-DOT specification pressure vessels.
12995-M | RSPA-02-12220 | Dow Chemical Company, Midland, MI | 02/01/2005 | 04/18/2005 | 49 CFR 173.306(a)(3)(v) | To modify the exemption to authorize the use of the DOT 2Q specification container with an increased container pressure not to exceed 180 psig at 55 degrees C.
13322-M | RSPA-03-16595 | UXB International Inc., Blacksburg, VA | 02/15/2005 | 03/29/2005 | 49 CFR 172.320; 173.54(a); 173.56(b); 173.58 | To modify the exemption to authorize the transportation of liquid explosives.
13996-M | RSPA-04-19660 | North American Automotive Hazardous Material Action Committee (NAAHAC), Washington, MI | 02/01/2005 | 04/12/2005 | 49 CFR 173.166(e)(4) | To reissue the exemption originally issued on an emergency basis for the transportation of airbag inflators/modules/pyrotechnic seat belt pretensioners in reusable high strength plastic or metal containers or dedicated handling devices.
13229-M | RSPA-03-15235 | Matheson Tri-Gas, East Rutherford, NJ | 02/25/2005 | 03/28/2006 | 49 CFR 173.304(b) | To modify the exemption to authorize importation of phosphine in non-DOT specification cylinders.
11606-M |  | Safety-Kleen Systems, Inc., Humble, TX | 02/24/2005 | 04/19/2005 | 49 CFR 173.28(b)(2) | To modify the exemption to authorize the transportation of an additional Division 6.1 and Class 8 material in UN Standard 1A1 and 1A2 drums and non-DOT specification metal drums.
9659-M |  | Kaiser Compositek Inc., Brea, CA | 02/21/2005 | 12/14/2005 | 49 CFR 173.302a(a)(1); 173.304a(a), (d); 175.3; 177.812 | To modify the exemption to authorize a design change of the non-DOT specification fiber reinforced plastic (FRP) full wrapped composite cylinder transporting Division 2.1 and Division 2.2 materials.
11244-M |  | Supercritical Thermal Systems, Inc. (formerly Aerospace Design & Development, Inc.), Longmont, CO | 03/01/2005 | 05/03/2005 | 49 CFR 173.316(c); 178.57 | To modify the exemption to authorize an alternative outer shell material for the non-DOT specification titanium alloy cylinder transporting a Division 2.2 material.
11281-M |  | E.I. du Pont de Nemours & Company, Wilmington, DE | 03/23/2005 | 06/07/2005 | 49 CFR 172.101, Column 7, Special Provisions B14, T38 | To modify the exemption to authorize the use of an additional portable tank specification and the transportation of an additional Class 8 material.
12412-M | RSPA-2000-6827 | Hawkins, Inc., Minneapolis, MN | 03/02/2005 | 02/14/2006 | 49 CFR 177.834(h); 172.203(a); 172.302(c) | To modify the exemption to allow the transportation and unloading of certain UN IBC and DOT Specification portable tanks containing incompatible materials on the same motor vehicle.
12842-M | RSPA-01-10751 | Onyx Environmental Services, L.L.C., Flanders, NJ | 03/10/2005 | 07/26/2005 | 49 CFR 173.156(b) | To modify the exemption to authorize a reoffering provision of the package to a non-holder of the exemption and transportation of Division 2.1 and Division 2.2 materials to an alternative disposal facility.
13245-M | RSPA-03-15985 | Piper Metal Forming Corporation (Formerly Quanex), New Albany, MS | 03/28/2005 | 06/01/2005 | 49 CFR 173.302(a)(1); 175.3 | To modify the exemption to authorize the use of non-refillable, non-DOT specification cylinders for all gases approved for shipment in DOT-3AL Specification cylinders.
13323-M | RSPA-03-16488 | U.S. Department of the Interior/U.S. Geological Survey, Woods Hole, MA | 03/11/2005 | 06/06/2005 | 49 CFR 173.302a | To modify the exemption to authorize an alternative higher pressure-rated cover for the non-DOT specification cylinders transporting a Division 2.1 material.
13548-M | RSPA-04-17545 | Battery Council International (BCI) | 03/01/2005 | 05/17/2005 | 49 CFR 173.159 | To modify the exemption to authorize alternative classifications for the transportation of battery fluid, acid.
13598-M | RSPA-04-18706 | Jadoo Power Systems Inc., Folsom, CA | 03/23/2005 | 05/05/2005 | 49 CFR 173.301(a)(1), (d) and (f) | To modify the exemption to authorize an increased maximum water capacity to 3.25 pounds for the hydride canister design and the use of UN4G fiberboard boxes.
14145-M | PHMSA-05-20834 | T-AKE Naval Sea Systems Command, Washington, DC | 03/29/2005 | 08/12/2005 | 49 CFR 176.116 | To reissue the exemption originally issued on an emergency basis for the transportation of certain Class 1 materials by vessel and provide relief from the general stowage requirements for Class 1 materials.
14165-M | PHMSA-05-20619 | Saint Louis University—Center for Vaccine Development, St. Louis, MO | 04/11/2005 | 04/19/2005 | 49 CFR 173.196 | To modify the exemption to extend the expiration date to complete the one-time, one-way transportation of infectious substances and diagnostic specimens in containers not authorized in the HMR.
9880-M |  | GE Reuter-Stokes, Inc., Twinsburg, OH | 04/07/2005 | 08/24/2005 | 49 CFR 173.302a; 175.3; Part 172 Subpart E and F | To modify the exemption to authorize an increase in design pressure to 440 psig for the non-DOT specification containers transporting Division 2.2 materials.
10048-M |  | Epichem, Inc., Haverhill, MA | 04/12/2005 | 06/07/2005 | 49 CFR 173.181; 173.187; 173.201, 202, 211, 212, 226, 227 | To modify the exemption to update various proper shipping names and UN numbers for the Division 4.2, 4.3, and 6.1 materials transported in a UN1A2 drum inside a non-DOT specification metal container.
11379-M |  | TRW Occupant Safety Systems, Washington, MI | 04/16/2005 | 07/06/2005 | 49 CFR 173.301(h), 173.302(a); 175.3 | To modify the exemption to increase the maximum service pressure at 70 degrees F for the non-DOT specification pressure vessels for use as components of safety systems.
12920-M | RSPA-02-11638 | Epichem, Inc., Haverhill, MA | 04/12/2005 | 06/07/2005 | 49 CFR 173.181(c) | To modify the exemption to update the proper shipping name and UN number for a Division 4.2 material transported in combination packagings with inner containers that exceed authorized quantities.
13207-M | RSPA-03-15068 | BEI Hawaii, Honolulu, HI | 04/14/2005 | 06/14/2005 | 49 CFR 173.32(f)(5) | To modify the exemption to authorize the use of additional DOT Specification IM 101 steel portable tanks that do not conform to the filling density requirements for the transportation of a Class 8 material.
13220-M | RSPA-03-14968 | Advanced Technology Materials, Inc. (ATMI), Danbury, CT | 04/04/2005 | 06/07/2005 | 49 CFR 173.301; 173.302; 173.304; 173.315 | To modify the exemption to authorize the use of alternative manufacturers, cylinder shapes and mixed metal construction for the non-DOT specification welded pressure vessels.
11970-M | RSPA-97-2993 | Albermarle Corp., Baton Rouge, LA | 04/27/2005 | 06/07/2005 | 49 CFR 172.101; 178.245-1(c) | To modify the exemption to authorize an additional proper shipping name for the Division 4.2 material transported in a non-DOT specification portable tank.
14170-M | PHMSA-05-20714 | General Dynamics Armament & Technical Products, Lincoln, NE | 05/24/2005 | 08/24/2005 | 49 CFR 173.301 and 173.306 | To reissue the exemption originally issued on an emergency basis for the transportation of certain compressed gases in non-DOT specification fiberglass reinforced plastic cylinders.
11321-M |  | E.I. Du Pont, Wilmington, DE | 05/18/2005 | 02/23/2006 | 49 CFR 172.101, Column 7, Special Provisions B14, T38 | To modify the exemption to authorize the use of UN specification portable tanks for the transportation of a Class 8 material.
11606-M |  | Safety-Kleen Systems, Inc., Humble, TX | 05/03/2005 | 07/12/2005 | 49 CFR 173.28(b)(2) | To modify the exemption to authorize the transportation of an additional Class 3 material in UN Standard 1A1, 1A2 and non-DOT specification steel drums.
11770-M |  | Gas Cylinder Technologies, Inc., Tecumseh, ON | 05/25/2005 | 10/25/2006 | 49 CFR 173.302a; 173.304a | To modify the exemption to authorize maximum internal capacity of 65 cubic inches for the non-DOT specification cylinders and eliminating the 2.5 inch maximum outside diameter requirement.
11911-M | RSPA-97-2735 | Transfer Flow, Inc., Chico, CA | 05/01/2005 | 09/28/2005 | 49 CFR 178.700 thru 178.819 | To modify the exemption to authorize the use of a new refueling tank design that is not required to be dismantled during transportation of Class 3 materials.
13616-M | RSPA-2004-18578 | U.S. Department of Commerce, Anchorage, AK | 05/01/2005 | 07/12/2005 | 49 CFR 172.101, Column 9B | To reissue the exemption originally issued on an emergency basis for the transportation of a Division 2.2 material in DOT Specification cylinders that are manifolded together and exceed the quantity limitations for cargo aircraft only.
13312-M | RSPA-2004-19656 | Air Products & Chemicals, Inc., Allentown, PA | 04/14/2005 | 06/01/2005 | 49 CFR 173.301(f)(3); 180.205(c)(4) | To authorize an alternative retesting method for DOT-3, 3A, 3AA cylinders used in transporting Division 2.1 hazardous materials.
11917-M | RSPA-97-2741 | ITW Sexton, Decatur, AL | 06/15/2005 | 03/03/2006 | 49 CFR 173.304(a) | To modify the exemption to authorize an increase in diameter of the non-DOT specification, non-refillable steel cylinders for the transportation of Division 2.1 materials.
13484-M | RSPA-04-17297 | Air Liquide America LP, Houston, TX | 06/28/2005 | 03/27/2006 | 49 CFR 172.302(c); 177.834 | To modify the exemption to authorize an increased inspection interval by a designated employee from 15 minutes to 1 hour for on-site loading operations of DOT Specification cargo tanks.
14171-M | PHMSA-05-20832 | NASA, Houston, TX | 06/09/2005 | 08/16/2005 | 49 CFR 173.301(f) | To reissue the exemption originally issued on an emergency basis for the transportation of a Division 2.2 material in non-DOT specification cylinders without pressure relief devices.
14193-M | PHMSA-05-21763 | Honeywell, Morristown, NJ | 06/27/2005 | 08/16/2005 | 49 CFR 173.313 | To reissue the exemption originally issued on an emergency basis for the transportation of non-DOT specification IMO Type 5 portable tanks, mounted in an ISO frame, containing certain Division 2.2 and 2.3 materials.
14194-M | PHMSA-05-21246 | Zippo Manufacturing Corporation, Bradford, PA | 06/01/2005 | 08/16/2005 | 49 CFR 173.21, 173.24, 173.27, 173.308, 175.5, 175.10, 175.30, 175.33 | To reissue the exemption originally issued on an emergency basis for the transportation of Zippo lighters in special travel containers in checked luggage on commercial passenger-carrying aircraft.
11380-M |  | Baker Atlas (a division of Baker Hughes, Inc.), Houston, TX | 06/28/2005 | 011/03/2005 | 49 CFR 173.302a(a); 178.37 | To modify the exemption to authorize a new tank assembly design of the non-DOT specification cylinders transporting Division 2.1 materials.
11321-M |  | E.I. Du Pont, Wilmington, DE | 06/29/2005 | 02/23/2006 | 49 CFR 172.101, Column 7, Special Provisions B14, T38 | To modify the exemption to authorize additional materials of construction and thickness requirements for the cargo and portable tanks transporting a Class 8 material.
13977-M | RSPA-05-20129 | Aethra Aviation Technologies, Farmingdale, NY | 06/22/2005 | 08/04/2005 | 49 CFR 173.302a; 175.3 | To reissue the exemption previously issued on an emergency basis for the transportation of a Division 2.2 and Class 9 material in certain cylinders that are charged in excess of their marked pressure used as components in aircraft.
10048-M |  | Epichem, Inc., Haverhill, MA | 07/18/2005 | 09/20/2005 | 49 CFR 173.181; 173.187; 173.201, 202, 211, 212, 226, 227 | To modify the exemption to authorize the transportation of additional Division 6.1 materials transported in a UN1A2 drum inside a non-DOT specification metal container.
11318-M |  | Akzo Nobel Chemicals, Inc., Chicago, IL | 07/13/2005 | 09/07/2005 | 49 CFR 172.101 Special Provision B14 | To modify the exemption to authorize the transportation of an additional Division 6.1 material in uninsulated DOT Specification 51 portable tanks.
13179-M | RSPA-02-14020 | Clean Harbors Environmental Services, Inc., Columbia, SC | 07/06/2005 | 09/12/2005 | 49 CFR 173.21; 173.308 | To modify the exemption to authorize the use of an alternative shipping description and hazard class for the Division 2.1 materials which are being transported to a disposal facility.
10962-M |  | ICC The Compliance Center, Niagara Falls, NY | 07/01/2005 | 09/30/2005 | 49 CFR Part 172, Subparts E, F; Part 177, Subpart C | To modify the exemption to authorize the use of an alternative specially designed combination packaging for the transportation of numerous hazardous materials by various modes.
12630-M | RSPA-01-8850 | Chemetall GmbH Gesellschaft, 59500 Douai, France | 07/26/2005 | 09/21/2005 | 49 CFR 172.102(a)(2) and (c)(7)(ii) | To modify the exemption to authorize an additional proper shipping name for the Division 4.2 material transported in DOT Specification IM 101 portable tanks.
12475-M | RSPA-00-7484 | Chemetall Foote Corporation, Kings Mountain, NC | 07/26/2005 | 09/21/2005 | 49 CFR 173.181; 173.28(b)(2) | To modify the exemption to authorize an additional proper shipping name for the Division 4.2 and Division 4.3 material transported in UN1A1 drums.
4661-M |  | Chemtell Foote Corporation, Kings Mountain, NC | 07/06/2005 | 02/06/2006 | 49 CFR 180.205 | To modify the exemption to authorize an additional proper shipping name for a Division 4.2 and Division 4.3 material transported in 4BA240 and 4BW240 cylinders.
10798-M |  | Chemetall Foote Corporation, Kings Mountain, NC | 07/26/2005 | 09/21/2005 | 49 CFR 174.67(i), (j) | To modify the exemption to authorize an additional proper shipping name for the Division 4.2 material transported in DOT Specification tank cars.
10695-M |  | 3M Company, St. Paul, MN | 07/25/2005 | 09/13/2005 | 49 CFR 172.101; 172.504; 172.505(a); 173.323; 174.81; 176.84; 177.848 | To modify the exemption to authorize a revision to the 3M Steri-Gas Cartridge Return Procedures containing a Division 2.3 material transported in UN4G fiberboard boxes.
5022-M |  | Boeing Company, The, Anaheim, CA | 08/17/2005 | 01/10/2006 | 49 CFR 174.101(L); 174.104(d); 174.112(a); 177.834(l)(1) | To modify the exemption to authorize the transportation of an additional Division 1.3C material in temperature controlled equipment.
7835-M |  | Air Products & Chemicals, Inc., Allentown, PA | 08/05/2005 | 02/14/2006 | 49 CFR 177.848(d) | To modify the exemption to authorize the use of an E track system as an approved method for securing cylinders transporting various hazardous materials.
8495-M |  | Kidde Aerospace, Wilson, NC | 08/22/2005 | 03/13/2006 | 49 CFR 173.304(a)(1); 178.47; 175.3 | To modify the exemption to authorize the transportation of additional Division 2.2 materials and expand use of the non-DOT specification cylinders to include Military Ground vehicles.
13487-M | RSPA-04-17293 | University of Colorado at Health Sciences Center, Aurora, CO | 08/22/2005 | 09/30/2005 | 49 CFR 173.197; 172.301(a),(b),(c); 173.196(a),(b); 178.609 | To modify the exemption to authorize an additional physical address of a newly acquired laboratory space for the one-way transportation of certain Division 6.2 materials in alternative packaging.
13601-M | RSPA-04-18713 | DS Containers, Inc., Lemont, IL | 08/11/2005 | 02/10/2006 | 49 CFR 173.306(b)(1); 175.3 | To modify the exemption to authorize the use of an alternative non-DOT specification inner non-refillable container and revised procedures for testing an approved lot.
14096-M | RSPA-05-20125 | United States Enrichment Corporation (USEC), Paducah, KY | 08/25/2005 | 04/27/2006 | 49 CFR 173.420 | To modify the exemption to authorize the one-time, one-way transportation of additional Model 480M and Model 48A cylinders containing a Class 7 material.
13963-M | RSPA-2004-19299 | Duratek Services, Inc., Columbia, SC | 08/03/2005 | 01/20/2006 | 49 CFR 173.403; 173.427; 173.465 | To modify the exemption to authorize the use of alternative packaging for the transportation of Class 7 material.
12874-M | RSPA-01-11103 | Zomeworks Corporation, Albuquerque, NM | 08/31/2005 | 03/14/2006 | 49 CFR 171 to 180 | To modify the exemption to authorize an increase in internal volume and length of the refrigerating machine canister and tubing and the transportation of an additional Division 2.2 material.
11215-M |  | Orbital Sciences Corporation, Mojave, CA | 08/16/2005 | 12/14/2005 | 49 CFR Part 172, Subparts C, D; 172.101, Special Provision 109 | To modify the exemption to change the packaging language to reflect current designs and add an additional flight plan launch site.
8915-M |  | Quimobasicos SA de CV, Monterrey, NL | 09/01/2005 | 12/09/2005 | 49 CFR 173.302a(a)(3); 173.301(d); 173.302a(a)(5) | To modify the exemption to authorize the transportation of certain manifolded DOT Specification cylinders containing R-22 and R-23 gas mixtures for disposal via incineration.
10427-M |  | Astrotech Space Operations, Inc., Titusville, FL | 09/07/2005 | 03/01/2006 | 49 CFR 173.61(a); 173.301(f); 173.302a; 173.336; 177.848(d) | To modify the exemption to authorize a quantity increase from 700 pounds to 1200 pounds of a Division 2.2 material transported on the same motor vehicle with various hazardous materials.
12783-M | RSPA-01-10309 | CryoSurgery, Inc., Nashville, TN | 09/01/2005 | 02/27/2006 | 49 CFR 173.304a(a)(1); 173.306(a) | To modify the exemption to authorize an increased fill capacity to 85% for the transportation of ORM-D materials in non-DOT specification nonrefillable containers.
13032-M | RSPA-02-12442 | Conax Florida Corporation, St. Petersburg, FL | 09/02/2005 | 02/02/2006 | 49 CFR 173.302a(a)(1) | To modify the exemption to authorize shipment of non-DOT specification pressure vessels in temperature controlled environments and without 1.4G pyrotechnic devices.
11967-M | RSPA-97-2991 | Savage Services Corporation, Pottstown, PA | 09/20/2005 | 11/25/2005 | 49 CFR 174.67(i),(j) | To modify the exemption to authorize the unloading of an additional Class 8 and 9 material in DOT Specification tank cars.
13544-M | RSPA-04-17548 | Blue Rhino Corporation, Winston-Salem, NC | 09/13/2005 | 12/15/2005 | 49 CFR 173.29; 172.301(c); 172.401. | To modify the exemption to provide relief from the marking requirements for the transportation of a Division 2.1 material in DOT Specification 4BA240 cylinders.
5206-M |  | Nelson Brothers, LLC, Birmingham, AL | 10/04/2005 | 04/28/2006 | 49 CFR 173.3(a); 173.3(b); 173.24(c); 173.60 | To modify the special permit by authorizing an additional hazardous material.
7887-M |  | Estes-Cox Corporation, d/b/a Estes Industries, Penrose, CO | 10/10/2005 | 04/24/2006 | 49 CFR 172.101; 175.3 | To modify the special permit to allow igniters, Division 1.4S, to be shipped in the same inner and outer packaging as model rocket motors and with nonhazardous materials needed to construct model rockets.
10407-M |  | Thermo Measure Tech, Sugar Land, TX | 10/18/2005 | 02/10/2006 | 49 CFR 173.302a(a); 175.3 | To modify the special permit to authorize the use of an alternative radiation detector or ionization chamber for the transportation of Division 2.2 materials.
10878-M |  | Tankcon FRP, Inc., Boisbriand, QC | 10/20/2005 | 03/28/2006 | 49 CFR 172.102(c)(3); 173.242 | To modify the special permit to waive the requirement for shipping papers to bear the DOT-SP number when transporting Class 8 materials in FRP cargo tanks.
11646-M |  | Barton Solvents, Inc., Des Moines, IA | 10/25/2005 | 02/16/2006 | 49 CFR 172.203(a); 172.301(c); 177.834(h) | To modify the special permit to authorize the discharge of Class 8 and an additional Class 3 material from a DOT Specification drum without removing the drum from the vehicle.
13245-M | RSPA-03-15985 | Piper Metal Forming Corporation, New Albany, MS | 10/24/2005 | 02/08/2006 | 49 CFR 173.302(a)(1); 175.3 | To modify the special permit to authorize a new neck configuration design for the non-refillable, non-DOT specification cylinders transporting Division 2.2 materials.
13599-M | RSPA-04-18712 | Air Products & Chemicals, Inc., Allentown, PA | 10/06/2005 | 04/27/2006 | 49 CFR 173.304a(a)(2) | To modify the special permit to authorize an increase in fill densities/ratios for the DOT Specification seamless steel cylinders transporting a Division 2.2 material.
13738-M | RSPA-04-18889 | Department of Energy, Washington, DC | 10/07/2005 | 04/05/2006 | 49 CFR 173.420(a)(4) | To modify the special permit to provide relief from the marking requirements for shipment of cylinders with missing or illegible nameplates containing a Class 7 material.
12561-M | RSPA-00-8305 | Rhodia Inc., Cranbury, NJ | 10/25/2005 | 04/26/2006 | 49 CFR 172.203(a); 173.31; 179.13 | To modify the special permit to authorize the use of 60 additional DOT Specification tank cars for the transportation of Class 8 materials.
13182-M | RSPA-02-14023 | Cytec Industries Inc., West Paterson, NJ | 10/28/2005 | 06/22/2006 | 49 CFR 173.192(a); 173.304a(b) | To modify the special permit to the maximum fill density to 45% for the DOT Specification and non-DOT specification cylinders transporting a Division 2.3 material.
10788-M |  | P.S.I. Plus, Inc., East Hampton, CT | 11/11/2005 | 04/04/2006 | 49 CFR 173.302(a)(1); 175.3; 178.65-2; 178.65-5(a)(4) | To modify the special permit to authorize the use of DOT specification 39 cylinders for all Division 2.1 gases.
11281-M |  | E.I. du Pont de Nemours & Company, Wilmington, DE | 11/15/2005 | 05/11/2006 | 49 CFR 172.101, Column 7, Special Provisions B14, T38 | To modify the exemption to authorize the use of an additional portable tank specification and the transportation of an additional Class 8 material.
11513-M |  | ATK Thiokol, Inc., Brigham City, UT | 11/21/2005 | 02/10/2006 | 49 CFR 172.101 | To modify the special permit to authorize transportation of aerial flares (flare candles), propellant samples, and wet cut propellant in non-DOT specification containers
14004-M | RSPA-04-19657 | Praxair, Inc., Danbury, CT | 11/18/2005 | 04/21/2006 | 49 CFR 173.34(e); 173.302(c), (2), (3), (4); Part 107, Subpart B, Appendix B | To modify the special permit to allow transportation of certain Division 2.2 gases in DOT specification 105J500W tank cars with a maximum weight on rail greater than 263,000 pounds but not greater than 286,000 pounds.
12706-M | RSPA-01-9731 | RAGASCO AS, Raufoss, Norway | 11/15/2005 | 03/03/2006 | 49 CFR 173.34; 173.201; 713.301; 173.304 | To modify the special permit to authorize the addition of certain Division 2.2 hazardous materials.
11691-M |  | Sensient Flavors, Inc., Indianapolis, IN | 12/13/2005 | 07/26/2006 | 49 CFR 176.83(d); 176.331; 176.800(a) | To modify the special permit to update a proper shipping description and authorize the transportation of a Class 9 material with Class 3 and Class 8 materials not subject to the segregation requirements for vessel storage when shipped in the same transport vehicle.
14183-M | PHMSA-21128 | LND, Inc., Oceanside, NY | 12/09/2005 | 03/13/2006 | 49 CFR 173.302a, 172.101(9A) | To modify the special permit to authorize additional design types, reduce the minimum volumetric capacity of certain design types, and authorize titanium as an additional material of construction.
7954-M |  | Air Products & Chemicals, Inc., Allentown, PA | 12/20/2005 | 04/24/2006 | 49 CFR 173.301(d)(2); 173.302(a)(3) | To modify the special permit to authorize the transportation in commerce of certain Division 2.3 gases in 3T cylinders.
12920-M | RSPA-11638 | Epichem, Inc., Haverhill, MA | 12/05/2005 | 06/08/2006 | 49 CFR 173.181(c) | To modify the special permit to authorize VCR connections and allow both the 10 and 20 liter drums to be made of 304 or 316 stainless steel.
14282-M |  | Dyno Nobel Transportation, Inc., Salt Lake City, UT | 10/11/2005 | 02/10/2006 | 49 CFR 173.835(g) | To reissue the special permit originally issued on an emergency basis for the transportation in commerce of certain detonators and detonator assemblies on the same motor vehicle with other Class 1 explosives when they are in separate and isolated cargo-carrying compartments powered by the same tractor.
10945-M |  | Structural Composites Industries, Pomona, CA | 01/26/2006 | 08/03/2006 | 49 CFR 173.302(a); 173.304(a); 175.3 | To modify the special permit to raise the load sharing capability percentage of the glass fiber wrapping of low pressure cylinders.
13169-M | RSPA-13894 | ConocoPhillips Alaska, Inc., Anchorage, AK | 01/16/2006 | 04/06/2006 | 49 CFR 172.101(9B) | To reissue the exemption originally issued on an emergency basis for the transportation of certain Class 9 materials in UN 31A intermediate bulk containers which exceed quantity limitations when shipped by air.
12373-M | RSPA-6504 | GE Energy Rentals, Inc., Atlanta, GA | 01/03/2006 | 03/31/2006 | 49 CFR 173.306(e)(1) | To modify the special permit to authorize an alternative method for testing used refrigerating machines; to eliminate the requirement to maintain a copy of the special permit at each facility where the refrigeration machine is offered, and to eliminate the requirement to carry a copy of the special permit on motor vehicle.
10048-M |  | Epichem, Inc., Haverhill, MA | 01/12/2006 | 03/13/2006 | 49 CFR 173.181; 173.187; 173.201, 202, 211, 212, 226, 227 | To modify the special permit to authorize a non-DOT specification cylinder as an additional packaging.
12412-M | RSPA-6827 | ChemStation International, Inc., Dayton, OH | 02/16/2006 | 05/21/2006 | 49 CFR 177.834(h); 172.203(a); 172.302(c) | To modify the exemption to allow the transportation and unloading of certain UN IBC and DOT Specification portable tanks containing incompatible materials on the same motor vehicle.
11691-M |  | Coca-Cola Company, The, Atlanta, GA | 02/09/2006 | 07/27/2006 | 49 CFR 176.83(d); 176.331; 176.800(a) | To modify the special permit to provide segregation relief for certain Class 8 corrosive materials in combination with other readily combustible materials as defined in § 176.2 of the Hazardous Materials Regulations.
14292-M |  | Honeywell International Inc., Morristown, NJ | 02/14/2006 | 04/12/2006 | 49 CFR 173.301(d)(2); 173.302(a)(3) | To reissue the special permit originally issued on an emergency basis to authorize the transport of boron trifluoride in DOT Specification 3AAX and 3AA manifolded cylinders.
14205-M | PHMSA-21773 | The Clorox Company, Pleasanton, CA | 02/09/2006 | 04/10/2006 | 49 CFR 173.306(a)(1) and 173.306(a)(3)(v) | To modify the special permit to authorize alternative testing requirements, increase lot size, eliminate the requirement to carry a copy of the permit on motor vehicles and to change the proper shipping name to Consumer Commodity, ORM-D.
10677-M |  | Primus AB, SE-171 26 Solna, Sweden | 02/15/2006 | 04/10/2006 | 49 CFR 173.304(d)(3)(ii) | To modify the special permit to authorize additional non-DOT specification packaging.
8915-M |  | MEMC, Pasadena, TX | 03/27/2006 | 07/31/2006 | 49 CFR 173.302a(a)(3); 173.301(d); 173.302a(a)(5) | To modify the special permit to authorize utilization of acoustic emission and ultrasonic examination as an alternative method for cylinder requalification.
9030-M |  | LND, Inc., Oceanside, NY | 03/24/2006 | 05/26/2006 | 49 CFR 173.302; 175.3 | To modify the special permit to authorize the transportation in commerce of an additional Division 2.2 gas (Xenon).
10529-M |  | LND, Inc., Oceanside, NY | 03/24/2006 | 08/01/2006 | 49 CFR 173.302; 175.3 | To modify the special permit to authorize additional Division 2.1 and 2.2 gases.
11966-M | 2990 | FMC Corporation, Philadelphia, PA | 04/28/2006 | 08/04/2006 | 49 CFR 173.31(b)(6)(i) | To modify the special permit to authorize extending the service life of a select group of tank cars fitted with half head shields.
14327-M | 24248 | The Colibri Group, Inc., Providence, RI | 05/01/2006 | 07/24/2006 | 49 CFR 173.21, 173.308, 175.33 | To modify the special permit to authorize the transportation in commerce of any approved lighter when packaged in special travel containers and transported in checked luggage by passenger aircraft.
13207-M | PHMSA-06-15068 | BEI, Honolulu, HI | 05/18/2006 | 08/09/2006 | 49 CFR 173.32(f)(5) | To modify the exemption to authorize the use of additional DOT Specification IM 101 steel portable tanks that do not conform to the filling density requirements for the transportation of a Class 8 material.
14282-M |  | R & R Trucking, Incorporated Galt, MO | 05/12/2006 | 08/07/2006 | 49 CFR 173.835(g) | To modify the special permit to remove the marking requirements of § 172.203(c).
13235-M | 15238 | Airgas-SAFECOR, Cheyenne, WY | 05/18/2006 | 08/04/2006 | 49 CFR 172.203(a); 177.834(h) | To modify the special permit to authorize filling and discharging of a horizontally mounted DOT specification 4L cylinder with liquid oxygen, refrigerated liquid without removal from the vehicle.
NEW SPECIAL PERMIT GRANTED
14137-N | RSPA-20346 | Mallinckrodt Baker, Inc., Phillipsburg, NJ | 01/24/2005 | 05/03/2005 | 49 CFR 172.102(c)(4), Special provision IB2 | To authorize the transportation in commerce of Hydrochloric acid up to 38% concentration in intermediate bulk containers. (Mode 1).
14139-N | RSPA-20344 | Commodore Advanced Sciences, Inc., Richland, WA | 01/24/2005 | 04/27/2005 | 49 CFR 173.244 in that a non-DOT steel vessel is not an authorized packaging, except under an exemption | To authorize the one-time, one-way transportation in commerce of solidified sodium metal in a non-DOT specification bulk packaging. (Mode 1).
14141-N | RSPA-05-20341 | Nalco Company, Naperville, IL | 01/26/2005 | 04/28/2006 | 49 CFR 177.834(i)(3) | To authorize the use of video cameras and monitors to observe the loading operations of certain hazardous materials from a remote control station in place of personnel remaining within 7.62 meters (25 feet) of the cargo tank motor vehicles. (Mode 1).
14144-N | RSPA-20337 | Lawrence Livermore National Laboratory, Livermore, CA | 01/19/2005 | 05/03/2005 | 49 CFR 173.212 | To authorize the one-time transportation in commerce of lithium hydride, fused solid in specially designed non-bulk containers. (Mode 1).
14146-N | RSPA-20419 | Brunswick Corporation, Lake Forest, IL | 01/26/2005 | 08/16/2005 | 49 CFR 173.220(e) | To authorize the transportation in commerce of certain engines, machinery and apparatus with up to 120 ml (4 ounces) of flammable liquid fuel by vessel. (Mode 3).
14149-N | RSPA-05 | Digital Wave Corporation, Englewood, CO | 02/01/2005 | 11/15/2005 | 49 CFR 180.205, 180.209 | To authorize the transportation in commerce of certain DOT-3AL seamless aluminum cylinders that have been alternatively ultrasonically retested for use in transporting Division 2.1, 2.2, 2.3 materials. (Modes 1, 2, 4).
14150-N | PHMSA-20469 | Eli Lilly & Company, Indianapolis, IN | 02/04/2005 | 11/03/2005 | 49 CFR 177.834 | To authorize the alternative attendance method for cargo tanks during loading and unloading of Class 3 and 8 hazardous materials. (Mode 1).
14151-N | PHMSA-20468 | ChevronTexaco, Houston, TX | 02/01/2005 | 03/01/2006 | 49 CFR 173.302 | To authorize the transportation in commerce of certain non-DOT specification cylinders for obtaining core samples of naturally occurring methane. (Modes 1, 3).
14152-N | PHMSA-20467 | Saes Pure Gas, Inc., San Luis Obispo, CA | 02/04/2005 | 07/08/2005 | 49 CFR 173.187 | To authorize the transportation of certain quantities of metal catalyst, classed as Division 4.2, in non-DOT specification packaging that exceed the maximum net quantity allowed per package. (Mode 4).
14154-N | PHMSA-20610 | Carleton Technologies, Inc | 02/01/2005 | 08/10/2005 | 49 CFR 173.302a, 173.304a, 180.209 | To authorize the manufacture, marking and sale of non-DOT specification fully wrapped carbon fiber reinforced aluminum lined cylinders for shipment of certain Division 2.2 gases. (Modes 1, 2, 3, 4, 5).
14155-N | PHMSA-20606 | American Promotional Events, Inc., Florence, AL | 02/07/2005 | 07/01/2005 | 49 CFR 173.60 | To authorize the transportation in commerce of certain fireworks in non-DOT specification packagings when returned to the distributor. (Mode 1).
14157-N | PHMSA-20609 | Worthington Cylinders of Canada Corp., Tilbury, Ontario, Canada | 02/14/2005 | 05/06/2005 | 49 CFR 173.302a | To authorize the manufacture, marking, sale and use of non-DOT specification cylinders similar to DOT 3AA for use in transporting certain nonflammable gases. (Modes 1, 4).
14158-N | PHMSA-20611 | UTC Fuel Cells, LLC, South Windsor, CT | 02/14/2005 | 05/03/2005 | 49 CFR 176.83 | To authorize the transportation by vessel of a fuel cell power plant containing hazardous materials that are not segregated as required by 49 CFR 176.83. (Mode 3).
14159-N | PHMSA-20613 | ChevronTexaco, Richmond, CA | 02/17/2005 | 09/30/2005 | 49 CFR 173.187 | To authorize the one-time one-way transportation in commerce of 8 non-DOT specification cylinders containing a Division 4.2 material. (Mode 1).
14162-N | PHMSA-20618 | BSCO Incorporated, Forest Hills, MD | 02/08/2005 | 12/14/2005 | 49 CFR 173.301(f) | To authorize the manufacture, mark and sale of certain non-DOT specification cylinders, each with an alternative thermal relief device, containing Division 2.2 materials, for use in fire suppression systems. (Modes 1, 3, 5).
14163-N | PHMSA-20615 | Air Liquide America L.P., Houston, TX | 02/25/2005 | 06/12/2006 | 49 CFR 173.301(g)(1)(ii) | To authorize the transportation in commerce of certain Division 2.2 materials in DOT specification cylinders that are manifolded and are not equipped with an individual shut off valve. (Modes 1, 2, 3).
14164-N | PHMSA-20614 | Sigma-Aldrich Corporation, Milwaukee, WI | 02/18/2005 | 06/01/2005 | 49 CFR 173.181 | To authorize the transporation in commerce of non-DOT specification cylinders, similar to DOT 4BW cylinders, containing Trimethylaluminum. (Modes 1, 2, 3).
14661-N | PHMSA-20668 | Presidential Airways, Melbourne, FL | 02/24/2005 | 08/23/2005 | 49 CFR 172.101 Column (9B) | To authorize the transportation in commerce of certain Division 1.1, 1.2, 1.3 and 1.4 explosives which are forbidden or exceed quantities authorized for transportation by cargo aircraft only. (Mode 4).
14167-N | PHMSA-20669 | Trinityrail, Dallas, TX | 02/27/2005 | 04/20/2006 | 49 CFR 173.26, 173.314(c), 179.13 and 179.100-12(c) | To authorize the manufacture, mark and sell DOT 105J600W specification tank cars having a maximum gross weight on rail of 286,000 in chlorine service. (Mode 2).
14168-N | PHMSA-21796 | Matheson Tri-Gas, East Rutherford, NJ | 02/01/2005 | 04/05/2005 | 49 CFR 173.3(d) | To authorize the transportation in commerce of salvage cylinders by cargo vessel. (Mode 3).
14172-N | PHMSA-20906 | Pacific Bio-Material Management, Inc., Fresno, CA | 03/08/2005 | 07/14/2005 | 49 CFR 173.196 and 173.199 | To authorize the transportation in commerce of infectious substances in a large capacity liquid nitrogen freezer. (Mode 1).
14173-N | PHMSA-20905 | Dow Chemical Company, Midland, MI | 03/10/2005 | 08/16/2006 | 49 CFR 179.13 | To authorize the transportation in commerce of ethylene oxide in DOT specification 105J400W tank cars that exceed the maximum allowable gross weight on rail (263,000 lbs.). (Mode 2).
14175-N | PHMSA-20903 | Air Products & Chemicals, Inc., Allentown, PA | 03/18/2005 | 01/05/2006 | 49 CFR 180.209 | To authorize the transportation in commerce of certain DOT Specification 3A and 3AA cylinders where the re-test period is extended to 10 years, the cylinders need not be removed from the bundle at each filing and that the hammer test need not be performed. (Modes 1, 2 3).
14176-N | PHMSA-20902 | Great Plains Industries, Inc., Wichita, KS | 03/21/2005 | 09/07/2005 | 49 CFR 173.242 | To authorize the manufacture, mark and sale of refueling tanks of up to 80 gallon capacity for use in transporting various Class 3 hazardous materials. (Mode 1).
14183-N | PHMSA-21128 | LND, Inc., Oceanside, NY | 04/11/2005 | 07/19/2005 | 49 CFR 173.302a, 172.101(9A) | To authorize the manufacture, marking, sale and use of non-DOT specification sealed electron tube radiation sensors to transport Division 2.1 and 2.2 materials. (Mode 1, 2, 3, 4, 5).
14185-N | PHMSA-21123 | U.S. Department of Energy, Washington, DC | 04/07/2005 | 03/02/2006 | 49 CFR 173.420 | To authorize the transportation in commerce of uranium hexafluoride in non-DOT specification cylinders. (Mode 1).
14186-N | PHMSA-21132 | Dow Chemical Company, Midland, MI | 04/02/2005 | 08/16/2005 | 49 CFR 179.13 | To authorize the transportation in commerce of Class 3 and 8 and Division 2.1 and 6.1 hazardous materials in DOT specification 105J300W tank car tanks that exceed the maximum allowable gross weight on rail (263,000 lbs). (Mode 2).
14187-N | PHMSA-21127 | Space Systems/Loral, Palo Alto, CA | 04/04/2005 | 10/19/2005 | 49 CFR 173.302a | To authorize the transportation in commerce of nickel-hydrogen batteries in non-DOT specification packaging. (Mode 1).
14188-N | PHMSA-21126 | Interdynamics, Inc., Tarrytown, NY | 04/26/2005 | 10/19/2005 | 49 CFR 173.304(d), 173.306(a)(3) and 178.33a | To authorize the manufacture, marking, sale and use of non-DOT specifications inner nonrefillable metal receptacles similar to DOT specification 2Q containers for certain Division 2.2 materials. (Modes 1, 2, 3, 4).
14189-N | PHMSA-21124 | PPG Industries, Inc., Pittsburgh, PA | 04/27/2005 | 01/06/2006 | 49 CFR 172.302, 172.326, 172.504, 173.242 | To authorize the transportation in commerce of the residue of certain Class 3 materials in non-DOT specification portable tanks without marking and placarding. (Mode 1).
14190-N | PHMSA-21262 | Cordis Corporation, Miami Lakes, FL | 04/28/2005 | 01/11/2006 | 49 CFR 172.200, 172.300, 172.400 | To authorize the transportation in commerce of certain Class 3 and 9 materials across a public road without shipping papers, marking or labeling. (Mode 1).
14196-N | PHMSA-21765 | Union Pacific Railroad, Omaha, NE | 05/09/2005 | 08/10/2005 | 49 CFR 174.67(i) and (j) | To authorize rail cars containing a combustible liquid to remain attached to unloading connectors without the physical presence of an unloader. (Mode 2).
14201-N | PHMSA-21768 | Murray Air, Inc. Ypsilanti, MI | 05/13/2005 | 09/07/2005 | 49 CFR 172.101 Column (9B); 172.204(c)(3); 173.27(b)(2)(3); 175.30 | To authorize the transportation in commerce by cargo only aircraft of Class 1 explosives which are forbidden or exceed quantities presently authorized. (Mode 4).
14204-N | PHMSA-21772 | Great Lakes Chemical Corporation, Lafayette, IN | 05/27/2005 | 09/07/2005 | 49 CFR 173.226(b) and (d) | To authorize the transportation in commerce of bromine in single Monel packagings. (Mode 1).
14205-N | PHMSA-21773 | The Clorox Company, Pleasanton, CA | 05/31/2005 | 01/06/2006 | 49 CFR 173.306(a)(1) and 173.306(a)(3)(v) | To authorize the transportation in commerce of Division 2.2 aerosols in plastic packagings. (Modes 1, 2).
14206-N | PHMSA-21762 | Digital Wave, Corporation, Englewood, Co | 05/01/2005 | 11/15/2005 | 49 CFR 180.205 | To authorize the transportation in commerce of certain cylinders that have been ultrasonically retested for use in transporting Division 2.1, 2.2, 2.3 materials. (Modes 1, 2, 4).
14207-N | PHMSA-21771 | GATX Rail Corporation, Chicago, IL | 05/24/2005 | 09/30/2005 | 49 CFR 179.13 | To authorize the transportation in commerce of Sodium hydroxide solution in DOT specification 111A100W-1 tank car tanks that exceed the maximum allowable gross weight on rail (263,000 lbs.). (Mode 2).
14209-N | PHMSA-21801 | ABB Power Technologies AB, Alamo, TN | 06/27/2005 | 05/31/2006 | 49 CFR 173.302a | To authorize the manufacture, mark, sale and use of a non-DOT specification composite cylinder for the transportation of compressed air. (Modes 1, 2, 3, 4).
14210-N | PHMSA-21803 | Arbel-Fauvet-Rail, Paris, France | 06/23/2005 | 10/24/2005 | 49 CFR 178.276(b)(1) | To authorize the manufacture, marking, sale and use of certain portable tanks permanently fixed within ISO frames designed in accordance with Section VIII, Division 2 of the ASME Code for use in transporting Division 2.1 and 2.2 hazardous materials. (Modes 1, 2, 3).
14213-N | PHMSA-21807 | Greif Bros. Corporation, Delaware, OH | 06/08/2005 | 09/28/2005 | 49 CFR 173.158 | To authorize the manufacture, marking and sale of 55-gallon UN 1H1 drums for shipment of up to 40% nitric acid. (Modes 1, 2, 3).
14215-N | PHMSA-21809 | U.S. Department of Energy, Washington, DC | 06/21/2005 | 02/24/2006 | 49 CFR 173.420 | To authorize the one-time transportation in commerce of certain DOE-owned uranium hexafluoride cylinders using a UX-30 overpack. (Mode 1).
14219-N | PHMSA-21818 | PSEG Nuclear LLC, Hancock's Bridge, NJ | 06/01/2005 | 10/20/2005 | 49 CFR 173.403, 173.427, 173.465 | To authorize the one-way transportation in commerce by motor vehicle of two Reactor Vessel Closure Head packages containing Class 7 material. (Modes 1, 3).
14221-N | PHMSA-21820 | U.S. Department of Energy, Washington, DC | 06/07/2005 | 06/13/2006 | 49 CFR 173.420, and 173.465 | To authorize the one-time exclusive use shipment of approximately 1,000 non-DOT specification uranium hexafluoride cylinders. (Mode 1).
14222-N | PHMSA-21821 | Clean Harbors Environmental Services, Inc., Bridgeport, NJ | 06/27/2005 | 07/27/2005 | 49 CFR 173.240 | To authorize the transportation in commerce of a hazardous waste (boiler stacks) on a flatbed motor vehicle. (Mode 1).
14223-N | PHMSA-21933 | Technical Concepts, Mundelein, IL | 06/30/2005 | 03/16/2006 | 49 CFR 173.306(a)(1) and 173.306(a)(3)(v) | To authorize the transportation in commerce of Division 2.1 aerosols in plastic packagings. (Mode 1).
14227-N | PHMSA-22064 | Aluminum Tank Industries, Inc., Winter Haven, FL | 07/18/2005 | 03/06/2006 | 49 CFR 177.834(h), 178.700 | To authorize the manufacture, mark, sale, and use of 50 gallon to 105 gallon refueling tanks containing certain Class 3 liquids which will be discharged without removal from the motor vehicle. (Mode 1).
14228-N | PHMSA-22065 | Goodrich Corporation, Colorado Springs, CO | 07/08/2005 | 05/10/2006 | 49 CFR 173.301(f) | To authorize the transportation in commerce of certain DOT Specification 3A and 3AA cylinders containing compressed oxygen without a pressure relief device. (Modes 1, 4, 5).
14230-N | PHMSA-22112 | Epichem, Inc., Haverhill, MA | 07/31/2005 | 11/15/2005 | 49 CFR 173.302a | To authorize the one-time transportation in commerce of non-DOT specification cylinders containing Dichlorosilane to an ocean shipment consolidation facility and/or port. (Modes 1, 3).
14234-N | PHMSA-22246 | Federal Industries Corporation, Plymouth, MN | 08/15/2005 | 02/02/2006 | 49 CFR 173.12(b)(2)(i) | To authorize the manufacture, marking, sale and use of a UN4G fiberboard box as the outer packaging for lab pack applications. (Modes 1, 2, 3).
14236-N | PHMSA-22388 | Sexton Can Company Inc., Decatur, AL | 08/24/2005 | 01/19/2006 | 49 CFR 173.304(e) | To authorize the manufacture, mark, sale and use of a DOT Specification 2Q non-refillable cylinder of up to 1 liter for use in transporting engine starting fluid. (Modes 1, 2, 3, 4, 5).
14238-N | PHMSA-22357 | DACC Lt., Kungnam-do, South Korea | 08/29/2005 | 12/12/2005 | 49 CFR 173.302 | To authorize the manufacture, mark, sale, and use of non-DOT specification fully wrapped carbon-fiber reinforced aluminum lined cylinders. (Modes 1, 2, 3, 4, 5).
14247-N | PHMSA-22603 | Great Lakes Chemicals Corporation, West Lafayette, IN | 09/23/2005 | 12/20/2005 | 49 CFR 178.605 | To authorize the transportation in commerce of certain hazardous materials in DOT Specification 51 portable tanks that are overdue for periodic inspection. (Mode 1).
14249-N | PHMSA-22604 | Remington Arms Company, Inc., Lonoke, AR | 09/06/2005 | 03/03/2006 | 49 CFR 173.62 | To authorize the transportation in commerce of cartridges, small arms in a 20-cubic yard bulk box. (Mode 1).
14251-N | PHMSA-22605 | Matheson Tri-Gas, Parsippany, NH | 09/21/2005 | 03/07/2006 | 49 CFR 172.400a, 172.301(c) | To authorize the transportation in commerce of overpacked cyclinders containing Class 2 materials with a CGA C-7 neckring labels. (Modes 1, 2, 3, 4, 5).
14253-N | PHMSA-22607 | Matheson Tri-Gas, East Rutherford, NJ | 09/15/2005 | 01/09/2006 | 49 CFR 173.302a | To authorize the one-way, one-time shipment of a DOT 3AA cylinder containing hydrogen sulfide further packed in a non-DOT specification salvage cylinder. (Mode 1).
14254-N | PHMSA-22608 | Pharmaceutical Research and Manufacturers of America, Washington, DC | 09/12/2005 | 03/31/2006 | 49 CFR 173.307(a)(5) | To authorize the transportation in commerce of aerosols with a capacity of 50 ml or less containing Division 2.2 material and no other hazardous materials to be transported without certain hazard communication requirements. (Modes 1, 2, 3, 4, 5).
14255-N | PHMSA-22609 | BP Amoco Chemical Company, Pasadena, TX | 09/15/2005 | 01/10/2006 | 49 CFR 173.240 | To authorize the one-way transportation in commerce of certain non-DOT specification pressure vessels containing a Class 3 flammable liquid residue. (Mode 1).
14256-N | PHMSA-22610 | David E. Bradshaw, Decatur, IL | 09/18/2005 | 02/24/2006 | 49 CFR 171.8 Design Certifying Engineer | To authorize an alternative qualification requirement for meeting the Design Certifying Engineer criteria in 49 CFR 171.8 (Mode 1).
14262-N | PHMSA-23294 | GATX Rail, Chicago, IL | 09/01/2005 | 03/03/2006 | 49 CFR 173.31 | To authorize the transportation in commerce of certain rail cars containing carbon dioxide with a tank head thickness slightly below the minimum required. (Mode 2).
14263-N | PHMSA-23288 | U.S. Department of Energy (DOE), Washington, DC | 09/29/2005 | 05/26/2006 | 49 CFR 178.356 | To authorize the manufacture, marking and sale of DOT Specification 20PF-1, 20PF-2 and 20PF-3 overpacks manufacture in variance with the specification in 49 CFR 178.356, and for their transport when containing uranium hexafluroride, fissile in Type A packagings. (Modes 1, 2, 3, 4).
14267-N | PHMSA-22925 | Department of Energy, Washington, DC | 10/13/2005 | 06/30/2006 | 49 CFR 173.417(a)(1) | To authorize the transportation in commerce of waste fissile uranium contaminated equipment in a DOT 7A, type A packaging when transported by motor vehicle or rail. (Modes 1, 2).
14272-N | PHMSA-22927 | Arrow Tank and Engineering Co., Minneapolis, MN | 10/12/2005 | 04/28/2006 | 49 CFR 173.5a | To authorize the transportation in commerce of a non-specification cargo tank (volumetric meter prover) containing the residue of a Division 2.1 material. (Mode 1).
14273-N | PHMSA-22929 | Garden State Tobacco d/b/a H.J. Bailey Co., Neptune, NJ | 10/07/2005 | 02/03/2006 | 49 CFR 172.102 Special provision N10; 173.308 | To authorize the transportation in commerce of lighters in non-DOT specification packaging without marking the approval number (T number) on the outer package. (Mode 1).
14274-N | PHMSA-22923 | Horiba Instruments, Inc., Irvine, CA | 10/10/2005 | 04/26/2006 | 49 CFR 177.834(h) | To authorize the discharge of a Division 2.1 material from an authorized DOT specification cylinder without removing the cylinder from the vehicle on which it is transported. (Mode 1).
14275-N | PHMSA-22933 | Hawk FRP, LLC, Ardmore, OK | 10/10/2005 | 04/24/2006 | 49 CFR 178.345 | To authorize the manufacture, mark, sale and use of non-DOT specification cargo tanks constructed of glass fiber reinforced plastic for use in transporting various hazardous materials. (Modes 1).
14279-N | PHMSA-23028 | Airgas, Inc., Cheyenne, WY | 10/30/2005 | 01/12/2006 | 49 CFR 173.40; 173.304 | To authorize the transportation in commerce of hydrogen sulfide in DOT specification cylinders with a service pressure of 480 psig. (Modes 1,3).
14280-N | PHMSA-23029 | Albemarle Corporation, Tyrone, PA | 10/26/2005 | 01/06/2006 | 49 CFR 173.226(a) | To authorize the one-time transportation in commerce of bromine in DOT-specification 4BW cylinders by motor vehicle. (Mode 1).
14281-N | PHMSA-23027 | Inflation Systems, Inc., Moses Lake, WA | 10/03/2005 | 02/21/2006 | 49 CFR 173.56(b), 173.61(a) | To authorize the transportation in commerce of certain scrap airbag inflators, seat belt pretensioners and/or airbag modules classified as Division 1.3C explosive articles.
14283-N | PHMSA-23246 | U.S. Department of Energy (DOE), Washington, DC | 11/14/2005 | 07/27/2006 | 49 CFR Part 172, Subparts E, F; 171.15; 171.16; 172.202; 172.203(c)(1)(i)”; 172.203(d)(1); 172.310; 172.316(a)(7); 172.331(b)(2); 172.332; 173.403(c); 173.425(c)(1)(iii); 173.425(c)(5); 173.443(a); 174.24; 174.25; 174.45; 174.59; 174.700; 174.715; 177.807;177.843(a) | To authorize the transportation in commerce of low specific activity radioactive materials (uranium mill tailings) Under special conditions in non-DOT specification packagings without labeling and placarding. (Modes 1, 2).
14286-N | PHMSA-23245 | EF Products, Inc., Dallas TX | 11/15/2005 | 01/31/2006 | 49 CFR 173.304(d) | To authorize the manufacturer, mark, sale and use of a non-refillable, non-DOT specification inside metal container similar to a DOT 2Q container for the transportation of certain hazardous materials. (Modes 1, 2, 3, 4).
14287-N | PHMSA-23247 | Troxler Electronic Laboratories, Inc, Research Triangle Park, NC | 11/04/2005 | 04/25/2006 | 49 CFR 173.431 | To authorize the transportation in commerce of certain radioactive materials exceeding the quantity that may be transported in a Type A packaging. (Modes 1, 4)
14296-N | PHMSA-23599 | Triple S Gas Tanks (PTY) Ltd dba GasCon, Elsieriver, South Africa | 12/22/2005 | 04/07/2006 | 49 CFR 173.315 | To authorize the manufacture, marking, sale and use of certain non-DOT Specification steel portable tanks conforming with Section VIII, Division 2 of the ASME Code for the transportation in commerce of Division 2.1 and 2.2 materials (Modes 1, 2, 3).
14297-N | PHMSA-23585 | Transition Packaging Inc., Lawrenceville, GA | 12/14/2005 | 06/15/2006 | 49 CFR 173.201, 173.202, 173.203 | To authorize the transportation in commerce of certain hazardous material liquids in a UN5H woven plastic bag. (Modes 1, 3, 4, 5).
14303-N | PHMSA-23643 | Constellation Energy, Lusby, MD | 12/15/2005 | 06/15/2006 | 49 CFR 173.403, 173.427(b)(1), 173.465(c) and 173.465(d) | To authorize the one-time, one-way transportation in commerce of reactor vessel closure heads in alternative packaging. (Mode 1).
14311-N | PHMSA-23869 | The Boeing Company, St. Louis, MO | 01/27/2006 | 03/28/2006 | 49 CFR 173.304a; 175.3 | To authorize the transportation in commerce of cylinders manufactured under DOT-E 7945 without a strong outer packaging. (Mode 1).
14313-N | PHMSA-23868 | Airgas, Inc., Radnor, PA | 01/11/2006 | 06/16/2006 | 49 CFR 173.302a(b)(2), (3), (4) and (5), 180.205, 180.209, 172.203(a), 172.301(c) | To authorize the use of ultrasonic inspection as an alternative retest method for certain DOT specification cylinders and certain cylinders manufactured under a DOT special permit. (Modes 1, 2, 3).
14315-N | PHMSA-23858 | Safe-T-Tank Corp, Meriden, CT | 01/18/2006 | 04/21/2006 | 49 CFR 177.834 | To authorize the manufacture, mark, sale and use of non-bulk, non-DOT Specification metal refueling tanks for transportation of certain Class 3 liquids. (Mode 1).
14317-N | PHMSA-23857 | GLI Citergaz, St. Pierre D'Exideuil, Civray, France, FR | 01/17/2006 | 07/18/2006 | 49 CFR 173.315 | To authorize the manufacture, mark, sale and use of certain non-DOT Specification steel portable tanks conforming with Section VIII, Division 2 of the ASME Code for the transportation in commerce of Division 2.1 and 2.2 materials. (Modes 1, 2, 3).
14323-N | PHMSA-24352 | Puritan Products, Bethlehem, PA | 02/06/2006 | 07/24/2006 | 49 CFR 173.158 | To authorize the transportation in commerce of nitric acid, other than red fuming in UN6HA1 composite drums by highway. (Mode 1).
14325-N | PHMSA-24276 | Air Transport International LLC (ATI), Little Rock, AR | 02/22/2006 | 04/25/2006 | 49 CFR Table § 172.101, Column (9B) | To authorize the transportation in commerce of certain Division 1.1 and 1.2 rockets which exceed quantities authorized for transportation by cargo aircraft only. (Mode 4).
14329-N | PHMSA-24381 | Qal-Tek Associates, Idaho Falls, ID | 03/01/2006 | 07/10/2006 | 49 CFR 173.431 | To authorize the transportation in commerce of certain radioactive materials exceeding the quantity that may be transported in a Type A packaging. (Modes 1, 4).
14332-N | PHMSA-24401 | Eagle-Picher Technologies, LLC, Joplin, MO | 03/08/2006 | 07/27/2006 | 49 CFR 173.226(c) | To authorize the transportation in commerce of certain Division 6.1 hazardous materials in Hazard Zone A in packaging with a lower hydrostatic test pressure. (Modes 1, 2).
14333-N | PHMSA-24382 | The Columbiana Boiler Co., Columbiana, OH | 03/13/2006 | 07/31/2006 | 49 CFR 179.300-13(b) | To authorize the transportation in commerce of certain DOT Specification 110A500W containers that have straight threads in the clean-out/inspection port openings instead of National Gas Taper Threads. (Mode 2).
14334-N | PHMSA-24395 | Rohm and Haas Chemicals LLC, Philadelphia, PA | 05/01/2006 | 07/20/2006 | 49 CFR 177.834(i) (1) and (3) | To authorize the use of video cameras and monitors to observe the loading and unloading operations meeting the definition of “loading incidental to movement” or “unloading incidental to movement” as those terms are defined in § 171.8 of the Hazardous Materials Regulations from a remote control station in place of personnel remaining within 25 feet of a cargo tank motor vehicle. (Mode 1).
14335-N |  | Rinchem Company, Albuquerque, NM | 03/24/2006 | 08/03/2006 | 49 CFR 177.848(d) | To authorize the transportation of Division 2.3 Zone A materials in the same transport vehicle as packages containing the residue only of Division 2.1, 2.2, 2.3, 4.3, 5.1 and Class 3 and 8 hazardous materials. (Mode 1).
14336-N | PHMSA-24394 | Ecology Control Industries, Torrance, CA | 03/01/2006 | 06/23/2006 | 49 CFR 173.244 | To authorize the one-way transportation in commerce of sodium metal in non-DOT specification bulk packaging by highway. (Mode 1).
14339-N | PHMSA-24397 | Crossfire Composites Company, Kalamazoo, MI | 03/14/2006 | 07/25/2006 | 49 CFR 173.302a, 173.304a | To authorize the manufacture, mark, sale and use of non-DOT specification fully wrapped carbon composite aluminum lined cylinders for the transportation in commerce of certain Division 2.1 and 2.2 hazardous materials. (Modes 1, 2, 3, 4, 5).
14342-N | PHMSA-24536 | Tri-Wall, A Weyerhaeuser Business, Butler, IN | 03/29/2006 | 08/01/2006 | 49 CFR 173.12(b) | Authorizes the manufacture, mark, sale and use of a corrugated fiberboard box for use as the outer packaging for lab pack applications in accordance with 49 CFR 173.12(b).
14349-N | PHMSA-24752 | Matheson Tri-Gas, Parsippany, NJ | 04/07/2006 | 08/02/2006 | 49 CFR 173.3(d)(2)(ii) | To authorize the transportation in commerce of non-DOT specification full open head, steel salvage cylinders with a water capacity of more than 119 gallons for use in transporting damaged, leaking or improperly filled cylinders containing various hazardous materials. (Modes 1, 2, 3).
EMERGENCY SPECIAL PERMIT GRANTED
EE 14016-M | RSPA-04-19798 | Air Products & Chemicals, Inc., Allentown, PA | 02/07/2005 | 02/09/2005 | 49 CFR 106, 107 and 171-180 | To reissue the exemption originally issued as an emergency exemption, to authorize the transportation in commerce of Tungsten hexafluoride in DOT Specification 3 BN cylinders that have been requalified by external visual inspection instead of hydrostatic retesting and internal visual inspection. (Modes 1, 2, 3). To modify the exemption to remove the five-year transportation limitation for completed air bag modules (Modes 1, 2, 3, 4).
EE 11379-M |  | TRW Occupant Safety Systems, Washington, MI | 02/24/2005 | 03/08/2005 | 49 CFR 173.301(h), 173.302 | To modify the exemption to remove the five-year transportation limitation for completed air bag modules. (Modes 1, 2, 3, 4).
EE 14160-M | PHMSA-05-20620 | George Mason University, Fairfax, VA | 04/28/2005 | 05/05/2005 | 49 CFR 173.336, 173.192 and 173.40 | To reissue the exemption originally issued on an emergency basis for the one time transportation in commerce of two cylinders that are no longer authorized to contain nitrogen dioxide (they were filled in the early 60's.) (Mode 1).
EE 14181-M | PHMSA-05-21089 | American Promotional Events, Florence, AL | 05/02/2005 | 05/04/2005 | 49 CFR 173.62 | To modify the exemption to allow more than 2 bulk packagings per common carrier and to increase the maximum capacity of the packaging. (Mode 1).
EE 13179-M | RSPA-02-14020 | Burlington Environmental dba Philip Services Corp., Kent, WA | 04/13/2005 | 05/17/2005 | 49 CFR 173.21; 173.308 | To modify the exemption to include the additional modes of air and rail transportation for the transportation in commerce of lighters that have been removed from their approved inner packagings, are partially used, and are being transported for disposal without further approval. (Mode 1).
EE 14005-M | RSPA-04-19585 | Scientific Cylinder International, LLC, Castle Rock, CO | 05/10/2005 | 06/06/2005 | 49 CFR 172.203(a), 172.301(c), 180.205(f)(4), 180.205(g), 180.209(a) | To modify the exemption to authorize the temporary, emergency authority to test cylinders at locations identified in Scientific Cylinder's application. (Modes 1, 2, 3, 4, 5, 6).
EE 14006-M | RSPA-04-19586 | Scientific Cylinder International LLC, Castle Rock, CO | 05/10/2005 | 06/06/2005 | 49 CFR 172.203(a), 172.301(c), 180.205(f)(4), 180.205(g), 180.209(a) | To reissue the exemption originally issued on an emergency basis for the transportation of DOT Specification 3AL cylinders containing Division 2.1, 2.2 and 2.3 materials when retested by a 100% ultrasonic examination in lieu of the internal visual and hydrostatic retest. (Modes 1, 2, 3, 4, 5).
EE 14171-M | PHMSA-05-20832 | NASA, Houston, TX | 06/08/2005 | 06/16/2005 | 49 CFR 173.301(f) | To modify the exemption to allow transportation of a pressurized corrosive material. (Modes 1, 4, 5).
EE 14204-M | PHMSA-21772 | Great Lakes Chemicals Corporation, Lafayette, IN | 09/15/2005 | 11/29/2005 | 49 CFR 173.226(b) and (d) | To modify the exemption to eliminate the use of a contract carrier in exclusive use of Great Lakes Chemical Corporation and permit shipment by motor carriers meeting the Carrier Profile and Carrier Self Assessment listed in the original application. (Mode 1).
EE 14241-M | PHMSA-25163 | EPA Region 4 (Mississippi), Atlanta, GA | 12/15/2005 | 12/29/2005 | 49 CFR 171-180 | To reissue the exemption originally issued on an emergency basis to transport hazardous materials used to support the recovery and relief efforts to, from and within the Hurricane Katrina disaster areas of Mississippi under conditions that may not meet the Hazardous Materials Regulations. (Modes 1, 2, 3, 4).
EE 14243-M | PHMSA-25160 | EPA Region 4 (Alabama), Atlanta, GA | 09/16/2005 | 09/16/2005 | 49 CFR 171-180 | To reissue the exemption originally issued on an emergency basis to support the recovery and relief efforts to, from and within the Hurricane Katrina disaster areas of Alabama under conditions that may not meet the Hazardous Materials Regulations. (Modes 1, 2, 3, 4, 5).
EE 14244-M | PHMSA-25161 | EPA Region 4 (Florida), Atlanta, GA | 09/16/2005 | 09/16/2005 | 49 CFR 171-180 | To reissue the exemption originally issued on an emergency basis to support the recovery and relief efforts to, from and within the Hurricane Katrina disaster areas of Florida under conditions that may not meet the Hazardous Materials Regulations. (Modes 1, 2, 3, 4, 5).
EE 14242-M | PHMSA-25164 | EPA Region 6 (Louisiana), Dallas, TX | 09/16/2005 | 09/16/2005 | 49 CFR 171-180 | To reissue the exemption originally issued on an emergency basis to support the recovery and relief efforts to, from and within the Hurricane Katrina disaster areas of Louisiana under conditions that may not meet the Hazardous Materials Regulations. (Modes 1, 2, 3, 4).
EE 9571-M |  | U.S. Department of Justice (FBI), Quantico, VA | 11/14/2005 | 11/14/2005 | 49 CFR Parts 100-177 | To modify the exemption by adding more information to the proper shipping description of the approved and unapproved explosives authorized under the terms of the exemption. (Modes 1, 2, 3, 4, 5).
EE 14245-M | PHMSA-23856 | Airgas, Inc., Cheyenne, WY | 12/01/2005 | 12/08/2005 | 49 CFR Part 172, Subparts A, B, C, D, E and F | To reissue the exemption originally issued on an emergency basis to authorize the transportation in commerce of certain cylinders that have had hazard communication markings and labels removed as a result of weather conditions related to Hurricane Katrina. (Mode 1).
EE 14242-M | PHMSA-25164 | EPA Region 6 (Louisiana), Dallas, TX | 12/15/2005 | 12/22/2005 | 49 CFR 171-180 | To reissue the exemption originally issued on an emergency basis to support the recovery and relief efforts to, from and within the Hurricane Katrina and Rita disaster areas of Louisiana under conditions that may not meet the Hazardous Materials Regulations. (Modes 1, 2, 3, 4).
EE 11970-M | RSPA-2993 | Albemarle Corporation, Baton Rouge, LA | 12/20/2005 | 12/21/2005 | 49 CFR 172.101; 178.245-1(c) | To modify the exemption to authorize an additional proper shipping name for the Division 4.2 material transported in a non-DOT specification portable tank. (Modes 1, 2, 3).
EE 10885-M |  | U.S. Department of Energy, Washington, DC | 12/21/2005 | 07/07/2006 | 49 CFR 172.101 Col. 9(b); 172.204(c)(3); 173.27(b)(2); 173.27(f) Table 2; 175.30(a)(1); 173.27(b)(3) | To modify the special permit by excepting 49 CFR 175.320(b)(1)(5) and (7) in paragraph 4 of the special permit. (Mode 4).
EE 6293-M |  | St. Marks Powder, Inc., St. Marks, FL | 02/23/2006 | 03/20/2006 | 49 CFR 173.248; 173.51(f) | To modify the exemption to include the ability to utilize a cargo tank for acid products other than spent nitrating acid mixtures. (Mode 1).
EE 14242-M | PHMSA-25164 | EPA Region 6 (Louisiana), Dallas, TX | 09/23/2005 | 09/23/2005 | 49 CFR 171-180 | To reissue the exemption originally issued on an emergency basis to support the recovery and relief efforts to, from and within the Hurricane Katrina and Hurricane Rita disaster areas of Louisiana under conditions that may not meet the Hazardous Materials Regulations. (Modes 1, 2, 3, 4).
EE 14241-M | PHMSA-25163 | EPA Region 4 (Mississippi), Atlanta, GA | 09/16/2005 | 09/16/2005 | 49 CFR 171-180 | To reissue the exemption originally issued on an emergency basis to support the recovery and relief efforts to, from and within the Hurricane Katrina disaster areas of Mississippi under conditions that may not meet the Hazardous Materials Regulations. (Modes 1, 2, 3, 4, 5).
EE 14242-M | PHMSA-25164 | EPA Region 6 (Louisiana), Dallas, TX | 03/15/2006 | 03/31/2006 | 49 CFR 171-180 | To reissue the exemption originally issued on an emergency basis to support the recovery and relief efforts to, from and within the Hurricane Katrina and Hurricane Rita disaster areas of Louisiana under conditions that may not meet the Hazardous Materials Regulations. (Modes 1, 2, 3, 4).
EE 14241-M | PHMSA-25163 | EPA Region 4 (Mississippi), Atlanta, GA | 03/28/2006 | 03/31/2006 | 49 CFR 171-180 | To reissue the exemption originally issued on an emergency basis to transport hazardous materials used to support the recovery and relief efforts to, from and within the Hurricane Katrina disaster areas of Mississippi under conditions that may not meet the Hazardous Materials Regulations. (Modes 1, 2, 3, 4, 5).
EE 14241-M | PHMSA-25163 | EPA Region 4 (Mississippi), Atlanta, GA | 03/28/2006 | 03/31/2006 | 49 CFR 171-180 | To reissue the exemption originally issued on an emergency basis to support the recovery and relief efforts to, from and within the Hurricane Katrina disaster areas of Mississippi under conditions that may not meet the Hazardous Materials Regulations. (Modes 1, 2, 3, 4, 5).
EE 11818-M |  | Orbital Sciences Corporation, Dulles, VA | 05/26/2006 | 08/07/2006 | 49 CFR 173.34(d) | To modify the special permit to authorize the transportation in commerce of certain Class 8, lithium batteries by cargo aircraft only. (Modes 1, 3, 4).
EE 14367-M | PHMSA-25299 | Volga Dnepr Airlines, Ulyanovsk, Russia | 06/29/2006 | 06/29/2006 | 49 CFR 172.101 Column 9B | To modify the special permit to change the scheduled flight departure and arrival dates. (Mode 4).
EE 14367-M | PHMSA-25299 | Volga Dnepr Airlines, Ulyanovsk | 06/29/2006 | 06/30/2006 | 49 CFR 172.101 Column 9B | To modify the special permit to clarify the authorized hazardous materials payload for transport. (Mode 4).
EE 12628-M | RSPA-8836 | Arbel Fauvet Rail (A.F.R.), Douiai | 01/17/2006 | 07/17/2006 | 49 CFR 178.245-1(b) | To modify the special permit to authorize a new tank design. (Mode 1).
EE 14116-N | RSPA-05-20123 | Green's Blue Flame Gas Co., Inc. Houston, TX | 01/10/2005 | 01/11/2005 | 49 CFR 173.315(k) | To authorize the transportation in commerce of a non-DOT specification 500 gallon storage tank containing approximately 350 gallons of propane one-time, one way for remediation. (Mode 1).
EE 14117-N | RSPA-05-20130 | MGP Ingredients, Inc., Atchison, KS | 01/11/2005 | 01/13/2005 | 49 CFR 180.509(h)(2) | To authorize the transportation in commerce of 65 DOT Specification stainless steel tank cars which are overdue for inspection of the reclosing pressure relief devices. (Mode 2).
EE 14118-N | PHMSA-05-21792 | Tooele County Emergency Management, Tooele, UT | 01/05/2005 | 01/14/2005 | 49 CFR 172.101 HMT, Column (9B) and 175.5(a)(2) | To authorize the transportation in commerce of Propane in DOT Specification 4B240 cylinders exceeding the weight limitations authorized for shipment by cargo aircraft in Utah. (Mode 4).
EE 14145-N | PHMSA-05-20834 | T-AKE Naval Sea Systems Command, Washington, DC | 01/27/2005 | 03/03/2005 | 49 CFR 176.116 | To authorize the transportation in commerce of certain class 1 materials by vessel in an alternative stowage configuration. (Mode 3).
EE 14147-N | RSPA-05-20420 | Clean Harbors Environmental Services, Inc., Greenbrier, TN | 02/10/2005 | 02/11/2005 | 49 CFR 173.244 | To authorize the one-time shipment of a Division 4.3 material in non-DOT specification bulk packaging by highway. (Mode 1).
EE 14153-N | PHMSA-05-20470 | BASF Corporation, Florham Park, NJ | 02/17/2005 | 02/22/2005 | 49 CFR 173.227(c) | To authorize the one-time transportation in commerce of toxic liquid, corrosive, organic, N.O.S. in UN drums that do not have the required overpack. (Mode 1).
EE 14160-N | PHMSA-05-20620 | George Mason University, Fairfax, VA | 02/23/2005 | 03/03/2005 | 49 CFR 173.336, 173.192 and 173.40 | To authorize the one-time transportation in commerce of two cylinders that are no longer authorized to contain nitrogen dioxide. (Mode 1).
EE 14165-N | PHMSA-05-20619 | Saint Louis University—Center for Vaccine Development, St. Louis, MO | 02/25/2005 | 03/03/2005 | 49 CFR 173.196 | To authorize the transportation in commerce of infectious substances and diagnostic specimens in containers that are not authorized in the HMR. (Mode 1).
EE 14169-N | PHMSA-05-20670 | Allied Universal Corporation, Miami, FL | 03/07/2005 | 03/08/2005 | 49 CFR 173.24, 179.300 | To authorize the one-time, one-way transportation in commerce of a leaking tank car tank that has been fitted with an emergency “B” chemical kit. The tank contains chlorine and an emergency exemption is necessary to protect life and the environment. (Mode 1).
EE 14170-N | PHMSA-05-20714 | General Dynamics, Lincoln, NE | 03/08/2005 | 03/21/2005 | 49 CFR 173.302a | To authorize the transportation in commerce of certain compressed gases in non-DOT specification fiberglass reinforced plastic cylinders. (Modes 1, 2, 4).
EE 14171-N | PHMSA-05-20832 | NASA, Houston, TX | 03/23/2005 | 04/07/2005 | 49 CFR 173.301(f) | To authorize the transportation in commerce of nitrogen in non-DOT specification cylinders, without pressure relief devices, in support of the space shuttle. (Modes 1, 4, 5).
EE 14181-N | PHMSA-05-21089 | American Promotional Events, Florence, AL | 04/20/2005 | 04/29/2005 | 49 CFR 173.62 | To authorize the transportation in commerce of fireworks in a non-DOT specification bulk container. (Mode 1).
EE 14182-N | PHMSA-05-21125 | Chugach Electric Association, Anchorage, AK | 04/22/2005 | 04/26/2005 | 49 CFR 172.101 (column 9b) | To authorize the transportation in commerce of certain materials that exceed quantity limitations when shipped by cargo aircraft. (Mode 4).
EE 14192-N | PHMSA-05-21261 | Huntsman Corportation, The Woodlands, TX | 05/06/2005 | 06/02/2005 | 49 CFR Part 173, subparts A and B | To authorize the transportation in commerce of seveal low pressure, high temperative reactors containing an oxidizer. (Mode 1).
EE 14193-N | PHMSA-05-21763 | Honeywell, Morristown, NJ | 05/04/2005 | 05/11/2005 | 49 CFR 173.313 | To authorize the emergency transportation in commerce of Liquefied gas, toxic, flammable, inhalation hazard zone B, UN3160 in IMO type 5 portable tanks. (Modes 1, 3).
EE 14194-N | PHMSA-05-21246 | Zippo Manufacturing Corporation, Bradford, PA | 05/09/2005 | 06/22/2005 | 49 CFR 173.21, 173.24, 173.27, 173.308, 175.5, 175.10, 175.30, 175.33 | Emergency exemption request to authorize the transportation of Zippo lighters in special travel containers in checked luggage in commercial passenger aircraft. (Mode 5).
EE 14195-N | PHMSA-05-21795 | Burlington Environmental Inc. dba Philip Services Corporation, Kent, WA | 04/13/2005 | 05/16/2005 | 49 CFR 173.21 | To authorize the emergency transportation in commerce of cigarette lighters for disposal in certain non-bulk packagings by cargo-only aircraft within the State of Alaska. (Modes 1, 4).
EE 14203-N | PHMSA-21438 | AlliantTechsystems, Inc. (ATK), Plymouth, MN | 05/25/2005 | 06/01/2005 | 49 CFR 172.203(a), 172.301(c), 178.3(c) and 178.503(a)(1) | Emergency request to authorize the transportation in commerce of 1.3C propellants contained in UN 1G fiber drums that have partial performance oriented packaging certification markings. (Modes 1, 2, 3, 4, 5, 6).
EE 14208-N | PHMSA-21669 | Lockheed Martin Space Systems Company, Sunnyvale, CA | 06/03/2005 | 07/12/2005 | 49 CFR 173.226 and 173.336 | To authorize the one-way highway transportation in commerce of a fueled THADD Duvert and Attitude Control System assembly containing separate cylinders of methyl hydrazine and dinitrogen tetroxide. (Mode 1).
EE 14211-N | PHMSA-21775 | Airgas, Vancouver, WA | 06/29/2005 | 06/29/2005 | 49 CFR 172.301(c), 173.301(f) | Emergency request to authorize the transportation in commerce of anhydrous ammonia in a DOT Specification 4AA480 cylinder that developed a leak and has an Ammonia Emergency Kit applied. (Mode 1).
EE 14224-N | PHMSA-22355 | Petroleum Helicopters, Inc., Lafayette, LA | 07/12/2005 | 07/12/2005 | 49 CFR 172.101; 172.203(a); 172.301(c); 175.320(a) | To authorize the one time transportation in commerce of certain division 1.1 (1.1D) explosives which are forbidden by cargo aircraft (Mode 4).
EE 14240-N | PHMSA-22436 | Mercury Marine, Inc., Fond du Lac, WI | 09/01/2005 | 09/02/2005 | 49 CFR 172.301, 173,220, 175.305(a)(1) | To authorize the emergency transportation in commerce of certain hazardous materials used to support the recovery and relief efforts to, from and within the Hurricane Katrina disaster areas not subject to certain requirements of the Hazardous Materials Regulations. (Modes 1, 2, 3, 4).
EE 14241-N | PHMSA-25163 | EPA Region 4 (Mississippi), Atlanta, GA | 09/02/2005 | 08/31/2005 | 49 CFR 171-180 | Request for an emergency exemption to transport hazardous materials used to support the recovery and relief efforts to, from and within the Hurricane Katrina disaster areas of Mississippi under conditions that may not meet the Hazardous Materials Regulations. (Modes 1, 2, 3, 4, 5).
EE 14242-N | PHMSA-25164 | EPA Region 6 (Louisiana), Dallas, TX | 09/02/2005 | 08/31/2005 | 49 CFR 171-180 | Request for an emergency exemption to transport hazardous materials used to support the recovery and relief efforts to, from and within the Hurricane Katrina disaster areas of Louisiana under conditions that may not meet the Hazardous Materials Regulations. (Modes 1, 2, 3, 4).
EE 14243-N | PHMSA-25160 | EPA Region 4 (Alabama), Atlanta, GA | 09/02/2005 | 08/31/2005 | 49 CFR 171-180 | Request for an emergency exemption to transport hazardous materials used to support the recovery and relief efforts to, from and within the Hurricane Katrina disaster areas of Alabama under conditions that may not meet the Hazardous Materials Regulations. (Modes 1, 2, 3, 4).
EE 14244-N | PHMSA-25161 | EPA Region 4 (Florida), Atlanta, GA | 09/02/2005 | 08/31/2005 | 49 CFR 171-180 | Request for an emergency exemption to transport hazardous materials used to support the recovery and relief efforts to, from and within the Hurricane Katrina disaster areas of Florida under conditions that may not meet the Hazardous Materials Regulations. (Modes 1, 2, 3, 4, 5).
EE 14245-N | PHMSA-23856 | Airgas, Inc., Cheyenne, WY | 09/15/2005 | 09/14/2005 | 49 CFR Part 172, Subparts A, B, C, D, E, and F | To authorize the transportation in commerce of certain cylinders that have had hazard communication markings and labels removed as a result of weather conditions related to Hurricane Katrina. (Mode 1).
EE 14246-N | PHMSA-24353 | Airgas, Inc., Cheyenne, WY | 09/16/2005 | 09/21/2005 | 49 CFR 180.205(c) | To authorize the transportation in commerce of certain cylinders that are out of test by no more than one year. The cylinders are needed as a result of the effects of Hurricane Katrina. (Mode 1).
EE 14248-N | PHMSA-25162 | EPA Region 6 (Texas), Dallas TX | 09/23/2005 | 09/23/2005 | 49 CFR, Parts 171 through 180 | To authorize the transportation in commerce of hazardous materials used to support the recovery and relief efforts to, from and within the Hurricane Rita disaster areas. (Models 1, 2, 3, 4, 5, 6).
EE 14250-N | PHMSA-25534 | Daniels Sharpsmart, Inc., Dandenong, Australia | 09/26/2005 | 12/21/2005 | 49 CFR 172.301(a)(1); 172.301(c) | To authorize the emergency transportation in commerce of a Division 6.2 material in packagings marked with an unauthorized proper shipping name. (mode 1).
EE 14265-N | PHMSA-22710 | Ecology Control Industries, Montclair, CA | 10/07/2005 | 10/14/2005 | 49 CFR 173.244 | To authorize the transportation in commerce of Sodium in non-DOT specification packages. (Mode 1).
EE 14282-N | PHMSA-23287 | Dyno Nobel Transportation, Inc., Salt Lake City, UT | 10/11/2005 | 12/22/2005 | 49 CFR 173.835(g) | This emergency special permit authorizes the transportation in commerce of certain detonators and detonator assemblies on the same motor vehicle with any other Class 1 explosives when they are in separate and isolated cargo-carrying compartments powered by the same tractor. (Mode 1).
EE 14290-N | PHMSA-23321 | Phoenix Air Group, Inc., Cartersville, GA | 12/01/2005 | 12/08/2005 | 49 CFR 172.101, column 9(B), 172.204(c)(3) and 173.27(b)(2)(3) and 175.30(a)(1) | The emergency special permit authorizes the one-time, one-way transportation in commerce of certain Division 1.1 and 1.5 explosives which are forbidden in cargo aircraft. (Mode 4).
EE 14291-N | PHMSA-23406 | Bristol Bay Contractors, King Salmon, AK | 12/14/2005 | 12/19/2005 | 49 CFR 172.101 table, column 9(b) | Request for an emergency exemption to transport liquefied petroleum gas in quantities that exceed the quantities specified for cargo aircraft in the Hazardous Materials Regulations. (Mode 4).
EE 14292-N | PHMSA-23591 | Honeywell International Inc., Morristown, NJ | 12/15/2005 | 12/22/2005 | 49 CFR 173.301(d)(2); 173.302(a)(3) | This emergency special permit authorizes the transportation in commerce of boron trifluoride in DOT Specification 3AAX and 3AA manifolded cylinders. (Mode 1).
EE 14293-N | PHMSA-23405 | Seacon Corporation, Charlotte, NC | 12/13/2005 | 01/24/2006 | 49 CFR 178.3 | To authorize the transportation in commerce of certain multiwall paper bags that meet the performance requirements but do not have the proper specification marking. (Modes 1, 2, 3, 4, 5).
EE 14306-N | PHMSA-23789 | BASF Corporation, Florham Park, NJ | 01/13/2006 | 01/13/2006 | 49 CFR 173.227(b)(3)(iv) | An application for an emergency special permit for authorization to transport a TIH, Zone B material with an inner container of a UN drum that does not meet the minimum thickness requirements.(Mode 1).
EE 14307-N | PHMSA-23788 | Gayson SDI, Barberton, OH | 01/17/2006 | 01/23/2006 | 49 CFR 178.3 | Application for an emergency special permit to authorize the transportation in commerce of certain drums containing organic peroxides that have not been marked with the UN markings. (Mode 1).
EE 14308-N | PHMSA-23750 | Space Systems/Loral, Palo Alto, CA | 01/13/2006 | 01/20/2006 | 49 CFR 173.304a | To authorize the transportation in commerce of a non-DOT specification pressure vessel as part of a satellite assembly containing anhydrous ammonia. (Modes 1, 4).
EE 14309-N | PHMSA-24678 | NYESC Acquisition Corp. dba Health Care Waste Services, Bronx, NY | 01/16/2006 | 01/30/2006 | 49 CFR 173.197(e)(1)(i); 172.301(c) | To authorize the emergency transportation in commerce of a Division 6.2 material in packagings which have not been marked with the ASTM testing certification. (Mode 1).
EE 14319-N | PHMSA-23900 | United States Can Company Elgin, IL | 02/07/2006 | 02/09/2006 | 49 CFR 172.301(c) | To authorize the transportation in commerce of cans that have been manufactured in accordance with special permit 11644, but have been mis-marked with “134a” instead of the required “DOT-E 11644”. (Mode 1).
EE 14320-N | PHMSA-23988 | DSM Nutritional Products, Inc., Belvidere, NJ | 02/03/2006 | 02/09/2006 | 49 CFR 173.241 | To authorize the transportation in commerce of a Division 4.2 material in non-DOT specification intermediate bulk containers by highway. (Mode 1).
EE 14321-N | PHMSA-23987 | Luxfer, Inc., Riverside, CA | 02/15/2006 | 06/07/2006 | 49 CFR 173.302a, 173.304a, 180.205 | To authorize the transportation in commerce of approximately 118 cylinders originally manufactured under DOT-SP 10915 which were not subjected to proper autofrettage and/or hydrostatic testing by the Independent Inspection Agency containing division 2.2 hazardous material. (Modes 1, 3, 5).
EE 14322-N | PHMSA-24024 | Iditarod Trail Committee, Wasilla, AK | 02/16/2006 | 02/17/2006 | 49 CFR 173.27(c)(2) | To issue an emergency Special Permit to authorize the transportation in commerce of an ORM-D by air. the packaging does not meet the pressure capability requirements in 173.27(c)(2). (Mode 4).
EE 14327-N | PHMSA-24248 | The Colibri Group, Providence, RI | 03/14/2006 | 03/29/2006 | 49 CFR 173.21, 173.308, 175.33 | Emergency exemption request to authorize the transportation of Colibri lighters in special travel containers in checked luggage in commercial passenger aircraft. (Mode 5).
EE 14328-N | PHMSA-24399 | Korean Air Cargo, DFW Airport, TX | 03/20/2006 | 04/24/2006 | 49 CFR 172.101, 172.204(c)(3), 173.27, 175.30(a)(1), 175.320 | To authorize the transport of Division 1.3G explosives (ignitors) which are forbidden for shipment by cargo-only aircraft. (Mode 4).
EE 14340-N | PHMSA-24533 | The Lightship Group, Orlando, FL | 12/21/2005 | 05/04/2006 | 49 CFR 173.6 | To authorize the transportation in commerce of a flammable liquid in a 20 gallon non-DOT specification packaging by highway. (Mode 1).
EE 14344-N | PHMSA-25534 | U.S. Environmental Protection Agency, Edison, NJ | 04/11/2006 | 04/19/2006 | 49 CFR 172.101 Table, Column 8C | To authorize the emergency one-way transportation in commerce of solid materials contaminated with or suspected to be contaminated with anthrax bacteria or spores, in a non-DOT specification packaging consisting of a bulk outer packaging and non-bulk inner packagings conforming to the provisions of this special permit for decontamination.
EE 14351-N | PHMSA-24679 | Department of Defense, Ft. Eustis, VA | 04/27/2006 | 04/28/2006 | 49 CFR 173.227(b) | To authorize the one-time shipment in exclusive use vehicles, of Nitric acid in 55 gallon DOT 42B drums which deviate from the required wall thickness, secondary cap seal and overpack requirements for Packing Group I Hazard Zone B materials. (Mode 1).
EE 14354-N |  | Air Products and Chemicals, Inc, Allentown, PA | 05/22/2006 | 08/09/2006 | 49 CFR 173.40(b); 173.301(f) | To authorize the one way return transportation of approximately 24 DOT 3AA-2015 cylinders overfilled with a Division 2.3 gas (Mode 1).
EE 14355-N | PHMSA-25012 | Honeywell International Inc., Morristown, NJ | 05/01/2006 | 07/07/2006 | 49 CFR 173.31(b)(3); 173.31(b)(4) | To authorize the transportation in commerce of nine DOT Specification 112 tank cars without head and thermal protection for use in transporting certain Division 2.2 material by extending the date for retrofitting beyond July 1, 2006. (Mode 2).
EE 14359-N | PHMSA-25277 | Martex Biosciences Corporation, Winchester, KY | 06/06/2006 | 06/23/2006 | 49 CFR 173.241 | To authorize the transportation in commerce of certain Division 4.2 PG II and III materials in non-DOT specification intermediate bulk containers by highway. (Mode 1).
EE 14361-N | PHMSA-25276 | Rodda Paint Co., Anchorage, AK | 06/21/2006 | 06/23/2006 | 49 CFR 173.27(c)(2)(i) and (ii) | To authorize the transportation in commerce of certain UN1A2/Y1.6/90 steel drums containing paint that do not meet the 95 kPa pressure requirement for transportation by air in remote areas of Alaska. (Modes 1,4).
EE 14363-N | PHMSA-25278 | L.A. Chemical, Southgate, CA | 06/22/2006 | 06/23/2006 | 49 CFR 173.240 | To authorize the one-time highway transportation in commerce of seven freight containers containing 140 flexible IBCs containing Ammonium fluoride, 6.1, PG III that have become wet and may leak liquid hazardous material. (Mode 1).
EE 14364-N | PHMSA-25297 | Dow Corning Corporation, Midland, MI | 06/27/2006 | 06/29/2006 | 49 CFR 180.407 | To authorize the transportation in commerce of hydrogen chloride in an MC-331 specification cargo tank for which the prescribed periodic retest or reinspection is past due. (Mode 1).
EE 14367-N | PHMSA-25299 | Volga Dnepr Airlines, Ulyanovsk, Russia | 06/27/2006 | 06/29/2006 | 49 CFR 172.101 Column 9B | To authorize the one-way transportation in commerce of certain Division 1.3L explosives and lithium batteries as part of the payload for the Sea Launch Integrated Launch Vehicle by cargo only aircraft. (Mode 4).
MODIFICATION SPECIAL PERMIT WITHDRAWN
12384-M | RSPA-99-6561 | OilAir Hydraulics, Inc., Houston, TX | 01/10/2005 | 11/18/2005 | 49 CFR 173.302(a)(1); 175.3 | To modify the exemption to authorize an increased design pressure not to exceed 10,000 psig and a minimum 3:1 design service to burst ratio for the steel hydraulic accumulators transporting Division 2.2 materials.
10590-M |  | ITW/SEXTON (formerly SEXTON CAN COMPANY, INC., Decatur, AL | 02/23/2005 | 09/20/2005 | 49 CFR 173.304a(d)(3)(ii); 178.33 | To modify the exemption to authorize a design change to the nonrefillable, non-DOT specification, inside container and the transportation of a Class 3 and additional Division 2.1 material.
12929-M | RSPA-03-14412 | Matheson Tri-Gas, East Rutherford, NJ | 06/30/2005 | 04/24/2006 | 49 CFR 173.301(1) | To modify the exemption to authorize the optional use of pressure relief devices on certain domestic shipments for the transportation of certain Division 2.3 materials.
11670-M |  | Oilphase Schlumberger, Dyce, Aberdeen Scotland | 07/21/2005 | 11/16/2005 | 49 CFR 178.36 | To modify the exemption to authorize the alternative use of a nickel-based precipitation hardenable alloy for the non-DOT specification cylinder used for oil well sampling.
12290-M | RSPA-99-5858 | Savage Services Corp. (formerly Savage Industries, Inc.), Pottstown, PA | 08/01/2005 | 09/27/2005 | 49 CFR 174.67(a)(2) | To modify the exemption to authorize the unloading of additional Class 3 and 8 and Division 5.1 materials in DOT Specification and non-DOT specification tank cars.
12844-M | RSPA-01-10753 | Delphi Corporation, Vandalia, OH | 12/06/2005 | 06/22/2005 | 49 CFR 173.301(h); 173.302(a); 175.3 | To modify the special permit to authorize an increase in maximum service pressure of the non-DOT specification cylinder design.
11579-M |  | Dyno Nobel, Inc., Salt Lake City, UT | 12/19/2005 | 06/22/2005 | 49 CFR 177.848(e)(2); 177.848(g)(3) | To modify the special permit to authorize the transportation of additional Class 8 materials in non-DOT specification metal containers.
13601-M | RSPA-18713 | DS Containers, Batavia, IL | 04/05/2006 | 05/19/2006 | 49 CFR 173.306(b)(1);175.3 | To modify the special permit to authorize the use of an alternative non-DOT specification inner non-refillable container and revised procedures for testing an approved lot.
NEW SPECIAL PERMIT WITHDRAWN
14138-N | RSPA-20343 | INO Therapeutics, Inc., Port Allen LA | 01/05/2005 | 05/18/2006 | 49 CFR 172.202, 172.301 | To authorize the transportation in commerce of certain hazardous materials for use in clinical-blinded studies with alternative shipping papers and markings. (Modes 1, 3).
14140-N | RSPA-05-20342 | Albemarle Corporation, Baton Rouge, LA | 01/27/2005 | 09/07/2005 | 49 CFR 172.101(j) and Column (9B) of the HMT and 173.27 | To authorize the transportation of a Division 4.3 material in DOT specification 3AA cylinders further packed in a UN fiberboard box by cargo aircraft only. (Mode 4).
14179-N | PHMSA-05-21793 | USA Jet Airlines, Belleville, MI | 03/01/2005 | 09/20/2005 | 49 CFR 175.33 | To authorize the transportation commerce of hazardous materials by air with alternative notification to the pilot. (Modes 4, 5).
14184-N | PHMSA-21129 | Global Refrigerants, Inc., Denver, CO | 04/04/2005 | 07/11/2006 | 49 CFR 173.301(j) | To authorize the one-time, one-way, transportation in commerce of approximately 250 non-DOT specification cylinders of refrigerant gas. (Mode 1).
14197-N | PHMSA-05-21770 | GATX Rail Corporation, Chicago, IL | 05/24/2005 | 05/18/2006 | 49 CFR 173.31(b)(5) | To authorize the transportation in commerce of tank cars containing certain hazardous materials without bottom discontinuity protection. (Mode 2).
14212-N | PHMSA-21804 | Clean Harbors Environmental Services, Inc., North Andover, MA | 06/27/2005 | 04/28/2006 | 49 CFR 177.848(d) | To authorize the transportation in commerce of 30-gallon drums containing only residue of sulfuryl chloride on the same motor vehicle with Division 4.3 materials. (Mode 1).
14216-N | PHMSA-21813 | ATK Thiokol, Inc., Brigham City, UT | 06/20/2005 | 11/22/2005 | 49 CFR 173.51, 173.56, 173.62 | To authorize the transportation in commerce of unapproved explosive articles and materials in non-DOT specification packaging by highway between ATK facilities within Utah. (Mode 1).
14220-N | PHMSA-21817 | Sapp Bros. Petroleum, Omaha, NE | 06/032005 | 10/01/2005 | 49 CFR 173.315 | To authorize the transportation in commerce of liquefied petroleum gas in non-DOT specification cargo tank motor vehicles exclusively for agricultural purposes when transported by private carriage. (Mode 1).
14268-N |  | Stratus Systems, Inc., Belle Chase, LA | 10/07/2005 | 01/27/2006 | 49 CFR Part 173, Subparts B and C | To authorize the transportation in commerce of certain 1.4B explosives in Non-DOT specification packagings. (Mode 4).
14271-N | PHMSA-22924 | Florida Power and Light Co., Jensen Beach, FL | 10/20/2005 | 02/24/2006 | 49 CFR 173.403, 173.427(b), 173.465(c) and (d) | To authorize the transportation in commerce of a class 7 nuclear reactor head in alternative packaging. (Modes 1, 3).
14299-N | PHMSA-23588 | Great Lakes Chemical Corporation, El Dorado, AR | 12/13/2005 | 03/15/2006 | 49 CFR 172.102(c) Special Provision B32 | To authorize the transportation in commerce of ethylene dibromide in MC 312 cargo tank motor vehicles. (Mode 1).
14312-N | PHMSA-23860 | National Electrical Manufacturers Association, Rosslyn, VA | 01/09/2006 | 07/14/2006 | 49 CFR 173.421, 173.422, 173.423, 173.424 | To authorize the transportation in commerce of certain lamp and lamp components containing limited quantities of radioactive material without marking the identification number on the package. (Modes 1, 2, 3, 4, 5).
14370-N | PHMSA-25296 | Pathology Laboratory, Des Moines, IA | 06/02/2006 | 07/31/2006 | 49 CFR 173.199 | To authorize the transportation in commerce of diagnostic specimens in a triple packaging as required by § 173.199 except that the absorbent material would be located between the secondary packaging and the outer packaging. (Mode 1).
EMERGENCY SPECIAL PERMIT WITHDRAWN
EE 13169-M | RSPA-02-13894 | ConocoPhillips Alaska, Inc., Anchorage, AK | 06/09/2005 | 06/21/2005 | 49 CFR 172.101(9B) | To reissue the exemption originally issued on an emergency basis for the transportation of certain Class 3 materials in DOT Specification UN31A intermediate bulk containers which exceed quantity limitations when shipped by air. (Mode 4).
EE 14225-N | PHMSA-22009 | The Colibri Group, Providence, RI | 07/25/2005 | 03/22/2006 | 49 CFR 173.21, 173.24, 173.27, 173.308, 175.5, 175.10, 175.30, 175.33 | Emergency exemption request to authorize the transportation of Colibri lighters in special travel containers in checked luggage in commercial passenger aircraft.
EE 14278-N |  | Air Transport International, L.L.C., Little Rock, AR | 10/24/2005 | 06/01/2006 | 49 CFR 172.101, 171.11; 172.204(c)(3); 173.27; 175.30(a)(1); 175.320(b) | To authorize the emergency transportation in commerce of certain Division 1.1, 1.2, 1.3, and 1.4 explosives which are forbidden or exceed quantities presently authorized. (Mode 4).

Denied
12412-M | Request by Los Angeles Chemical Company South Gate, CA February 14, 2006. Request by Los Angeles Chemical Company, South Gate, CA February 14, 2006, to modify the special permit to add additional hazardous materials to be unloaded without removing the IBC from the motor vehicle on which it is transported.
13192-M | Request by Onyx Environmental Services, L.L.C. Flanders, NJ January 30, 2006. To modify the exemption to remove relief that is now provided in the Hazardous Materials Regulations and authorize higher quantity limits for segregation of certain hazardous materials.
11924-M | Request by Wrangler Corporation Auburn, ME May 15, 2006. footnote To modify the exemption to authorize an additional design type of the composite intermediate bulk container (IBC) and a change to the additional IBC drop test requirements.
7835-M | Request by Rinchem Company, Inc. Albuquerque, NM February 14, 2006. To modify the exemption to authorize the use of alternative combination and single packagings for the transportation of Division 2.1, 2.2, 2.3, 5.1, 4.3, Class 3 and 8 materials on the same motor vehicle.
13187-M | Request by Fluke Biochemical, LLC (formerly Radiation Management Services, Cardinal Health) Cleveland, OH March 29, 2006. To reissue the exemption originally issued on an emergency basis for the use of non-DOT specification packaging for the transportation of Division 2.2 materials.
13583-M | Request by Structural Composites Industrial Pomona, CA August 02, 2006. To modify the special permit to authorize an alternative test method and extend the service life of each non-DOT specification composite cylinder for up to 30 years.
13481-M | Request by Onyx Environmental Services, L.L.C. Ledgewood, NJ March 16, 2006. To modify the exemption to authorize the transportation of solid explosive substances in special shipping containers.
7954-M | Request by Air Products & Chemicals, Inc. Allentown, PA February 07, 2006. Emergency modification application requesting that the decaling placed on the tube trailers need not be changed until the unit is due for re-qualification.
11911-M | Request by Transfer Flow, Inc. Chico, CA April 06, 2006. To modify the special permit to remove the requirement that hoses are not allowed to be attached to discharge outlets during transportation.
14136-N | Request by American Environmental Group Norfolk, VA February 11, 2005. To authorize the transportation in commerce of regulated medical waste in bulk outer packagings exceeding the quantity limitations provided in 49 CFR 173.197(d)(3)(i).
14142-N | Request by Arch Chemicals, Inc. Norwalk, CT March 30, 2005. To authorize the transportation in commerce of a hazardous substance without marking, labeling or placarding when further packaged in a freight container.
14143-N | Request by Federal Industries Corporation Plymouth, MN May 17, 2005. To authorize the manufacture, marking and sale of a corrugated fiberboard box for use as the outer packaging for lab pack applications in accordance with § 173.12(b).
14177-N | Request by OraSure Technologies, Inc. Bethlehem, PA April 19, 2005. To authorize the transportation in commerce of a Division 2.1 material in a DOT specification 2Q container without shipping papers, marking or labeling.
14178-N | Request by Brider Fire Inc. Bozeman, MT April 06, 2006. To authorize the transportation in commerce of gelled gasoline in a non-DOT specification steel drum with a pump installed, mounted in a helitorch frame.
14198-N | Request by Pfizer, Inc. Memphis, TN July 12, 2005. To authorize the one-way transportation in commerce of certain infectious substances in special packagings transported by a contract carrier.
14199-N | Request by RACCA Plymouth, MA April 27, 2006. To authorize the transportation in commerce by air of certain hazardous materials with alternative notification to the pilot in command.
14200-N | Request by RACCA Plymouth, MA August 10, 2005. To authorize the transportation in commerce of packagings previously used for hazardous materials that have not had the hazard warning labels removed and are used for non-hazardous commodities.
14124-N | Request by Input/Output Marine Systems Harahan, LA August 23, 2005. To authorize the transportation in commerce of certain lithium batteries as materials of trade.
14218-N | Request by Air Logistics of Alaska, Inc. Fairbanks, AK April 28, 2006. To authorize an alternative method of notification to the pilot-in-command when transporting hazardous materials by cargo-only aircraft in remote areas within the State of Alaska.
14233-N | Request by U.S. Department of Energy (DOE) Richland, WA June 05, 2006. To authorize the transportation in commerce of non-DOT specification sealed electron tubes containing helium, compressed which are installed in a mobile radiation portal monitor.
14235-N | Request by Bunkers of St. Croix, Inc. Christiansted, VI February 24, 2006. To authorize the repair of certain DOT-Specification cargo tank motor vehicles in the US Virgin Islands to be performed by a repair facility that does not hold a Valid National Board Certification of Authorization for use of the National Board “R” stamp.
14252-N | Request by Hobo Incorporated Lakeville, MN April 20, 2006. To authorize the transportation in commerce of certain UN certified plastic drums containing soap products which are reused without leakproof testing.
14269-N | Request by Texmark Chemicals, Inc. Galena Park, TX April 28, 2006. To authorize alternative attendance requirements for loading and unloading Class 3 flammable liquids transported by motor vehicle and rail in cargo tanks, portable tanks and rail cards.
14270-N | Request by Piper Metal Forming Corporation New Albany, MS June 21, 2006. To authorize the manufacture, mark, sale and use of non-DOT specifications cylinders conforming to all regulations applicable to a DOT specification 3AL cylinder except that the material of construction is aluminum alloy 6069.
14276-N | Request by Environmental Packaging Technologies Atkinson, NH April 12, 2006. To authorize the manufacture, marking and sale of a corrugated fiberboard box for use as the outer packaging for lab pack applications.
14284-N | Request by Ox-Gen Incorporated, March 31, 2006. To authorize the transportation in commerce of a specially designed medical oxygen device to be classed and described as “Oxidizing solid, n.o.s.”, Division 5.1, PG II, in lieu of a chemical oxygen generator.
14326-N | Request by West Isle Line Alpaugh, CA July 31, 2006. To authorize the transportation in commerce of rail cars without the use of buffer cars on a class 2 restricted speed track during daylight hours.
14231-N | Request by FAA Washington, DC June 16, 2006. Request for an emergency exemption to offer packages of a non-hazardous material, represented as hazardous material, for purposes of conducting compliance testing of certain airlines' hazmat handling procedures.

[FR Doc. 06-6954 Filed 8-15-06; 8:45 am]

BILLING CODE 4909-60-M